ENVIRONMENTAL PROTECTION AGENCY

40 CFR Part 63

[EPA-HQ-OAR-2006-0406, FRL-8240-1]

RIN 2060-AM74

National Emission Standards for Hazardous Air Pollutants for Source Categories: Gasoline Distribution Bulk Terminals, Bulk Plants, Pipeline Facilities, and Gasoline Dispensing Facilities

AGENCY: Environmental Protection Agency (EPA).

ACTION: Proposed rule.

SUMMARY: This action proposes national emission standards for hazardous air pollutants for certain area source facilities. Specifically, this proposal sets forth two regulatory alternatives. The first alternative (Regulatory Alternative 1) proposes emission standards for bulk gasoline terminals, pipeline facilities, and bulk gasoline plants. The second alternative (Regulatory Alternative 2) is identical to the first alternative, except that it also proposes emission standards for gasoline dispensing facilities. We are proposing these emission standards for hazardous air pollutants pursuant to Clean Air Act section 112(c)(3) and 112(d)(5). This action also announces that we are not regulating the above-noted facilities under Clean Air Act section 112(c)(6).

We estimate that the proposed standards would result in an annual reduction of about 3,300 and 3,400 tons of hazardous air pollutant emissions (including about 120 and 125 tons of benzene), and about 45,000 and 46,200 tons of volatile organic compound emissions for the proposed Regulatory Alternatives 1 and 2, respectively. This represents about a 9 and 10 percent reduction of emissions from area sources in the gasoline distribution source category for the proposed Regulatory Alternatives 1 and 2, respectively.

DATES: Comments. Comments must be received on or before January 8, 2007. Under the Paperwork Reduction Act, comments on the information collection provisions must be received by the Office of Management and Budget (OMB) on or before December 11, 2006.

Public Hearing. If anyone contacts EPA requesting to speak at a public hearing by November 29, 2006, a public hearing will be held on December 7, 2006.

ADDRESSES: Submit your comments, identified by Docket ID No. EPA-HQ-OAR-2006-0406, by one of the following methods:

• http://www.regulations.gov. Follow the on-line instructions for submitting comments.

• E-mail: a-and-r-docket@epa.gov.

• Fax: (202) 566-1741.

• Mail: By U.S. Postal Service send your comments to: Air and Radiation Docket, EPA, Mailcode: 6102T, 1200 Pennsylvania Ave., NW, Washington, DC 20460. Please include a total of two copies. In addition, please mail a copy of your comments on the information collection provisions to the Office of Information and Regulatory Affairs, Office of Management and Budget, Attn: Desk Officer for EPA, 725 17th St. NW., Washington, DC 20503.

• Hand Delivery: In person or by courier, deliver your comments to: Air and Radiation Docket, EPA, 1301 Constitution Ave., NW, Room B-102, Washington, DC 20004. Such deliveries are only accepted during the Docket's normal hours of operation, and special arrangements should be made for deliveries of boxed information.

Instructions: Direct your comments to Docket ID No. EPA-HQ-OAR-2006-0406. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket, visit the EPA Docket Center homepage at http://www.epa.gov/epahome/dockets.htm.

Docket: All documents in the docket are listed in the www.regulations.gov index. Although listed in the index, some information is not publicly available, e.g., CBI or other information whose disclosure is restricted by statute. Certain other material, such as copyrighted material, will be publicly available only in hard copy. Publicly available docket materials are available either electronically in http://www.regulations.gov or in hard copy at the Air and Radiation Docket, EPA/DC, EPA West Building, Room B-102, 1301 Constitution Ave., NW., Washington, DC. The Public Reading Room is open from 8:30 a.m. to 4:30 p.m., Monday through Friday, excluding legal holidays. The telephone number for the Public Reading Room is (202) 566-1744, and the telephone number for the Air and Radiation Docket is (202) 566-1742.

Note: The EPA Docket Center suffered damage due to flooding during the last week of June 2006. The Docket Center is continuing to operate. However, during the cleanup, there will be temporary changes to Docket Center telephone numbers, addresses, and hours of operation for people who wish to make hand deliveries or visit the Public Reading Room to view documents. Consult EPA's Federal Register notice at 71 FR 38147 (July 5, 2006) or the EPA Web site at http://www.epa.gov/epahome/dockets.htm for current information on docket operations, locations, and telephone numbers. The Docket Center's mailing address for U.S. mail and the procedure for submitting comments to www.regulations.gov are not affected by the flooding and will remain the same.

FOR FURTHER INFORMATION CONTACT: General and Technical Information: Mr. Stephen Shedd, Office of Air Quality Planning and Standards, Sector Policies and Programs Division, Coatings and Chemicals Group (E143-01), EPA, Research Triangle Park, NC 27711, telephone (919) 541-5397, facsimile number (919) 685-3195, electronic mail (e-mail) address: shedd.steve@epa.gov.

Economic Analysis Information: Mr. Art Rios, Office of Air Quality Planning and Standards, Health and Environmental Impacts Division, Air Benefit and Cost Group (C339-01), EPA, Research Triangle Park, NC 27711, telephone (919) 541-4883, facsimile number (919) 541-0839, electronic mail (e-mail) address: Rios.Arturo@epamail.epa.gov.

SUPPLEMENTARY INFORMATION: Regulated Entities. The regulated categories and entities affected by these proposed national emission standards include:

Category | NAICS ᵃ | Examples of regulated entities
Industry | 324110 493190 486910 424710 447110 447190 | Operations at area sources that transfer and store gasoline, including bulk terminals, bulk plants, pipeline facilities, and gasoline dispensing facilities.
Federal/State/local/tribal governments
ᵃ North American Industry Classification System.

This table is not intended to be exhaustive, but rather provides a guide for readers regarding entities likely to be affected by the national emission standards. To determine whether your facility would be affected by the national emission standards, you should examine the applicability criteria in this proposed rule. If you have any questions regarding the applicability of the national emission standards to a particular entity, consult either the air permit authority for the entity or your EPA regional representative as listed in 40 CFR 63.13.

Worldwide Web (WWW). In addition to being available in the docket, an electronic copy of this proposed rule is also available on the WWW through the Technology Transfer Network (TTN). Following signature, a copy of this proposed rule will be posted on the TTN's policy and guidance page for newly proposed or promulgated rules at the following address: http://www.epa.gov/ttn/oarpg/. The TTN provides information and technology exchange in various areas of air pollution control.

Public Hearing. If a public hearing is held, it will begin at 10 a.m. and will be held at the EPA Facility Complex located at 109 T.W. Alexander Drive, Research Triangle Park, NC, or at an alternate facility nearby. Persons interested in presenting oral testimony or inquiring as to whether a public hearing is to be held must contact Mr. Stephen Shedd, listed in the FOR FURTHER INFORMATION CONTACT section, at least 2 days in advance of the hearing. The public hearing will provide interested parties the opportunity to present data, views, or arguments concerning the proposed action.

Outline. The information presented in this preamble is organized as follows:

I. Background

II. Summary of Proposed Rule for Area Sources

A. What source category would be affected by this proposed rule?

B. What would be the affected sources and emission points?

C. What would be the emission limits, equipment standards, and work practice standards?

D. What would be the testing and initial compliance requirements?

E. What would be the notification, recordkeeping, and reporting requirements?

III. Not Regulating This Source Category Under CAA Section 112(c)(6)

IV. Rationale for This Proposed Rule

A. How did we select the source category?

B. How did we select the affected sources and emission points?

C. How did we determine the level of this proposed rule?

D. How did we select the format for this proposed rule?

E. How did we select the proposed testing and monitoring requirements?

F. How did we select the proposed notification, recordkeeping, and reporting requirements?

G. How did we decide to exempt gasoline distribution area sources from the CAA title V permit requirements?

H. How did we determine the compliance date for existing facilities?

V. Summary of Environmental, Energy, Cost, and Economic Impacts

A. What are the air impacts?

B. What are the cost impacts?

C. What are the economic impacts?

D. What are the non-air environmental and energy impacts?

VI. Statutory and Executive Order Reviews

A. Executive Order 12866: Regulatory Planning and Review

B. Paperwork Reduction Act

C. Regulatory Flexibility Act

D. Unfunded Mandates Reform Act

E. Executive Order 13132: Federalism

F. Executive Order 13175: Consultation and Coordination With Indian Tribal Governments

G. Executive Order 13045: Protection of Children From Environmental Health and Safety Risks

H. Executive Order 13211: Actions That Significantly Affect Energy Supply, Distribution, or Use

I. National Technology Transfer and Advancement Act

I. Background

Section 112 of the Clean Air Act (CAA) generally regulates major source facilities separately from area source facilities. On December 14, 1994 (59 FR 64303) we promulgated national emission standards for hazardous air pollutants (NESHAP) for major source facilities within the gasoline distribution source category (see 40 CFR part 63, subpart R (Major Source NESHAP)). The Major Source NESHAP imposed control requirements on sources within the source category that met the definition of major sources, e.g., a source that emits 10 tons per year or more of any individual hazardous air pollutant (HAP) or 25 tons per year or more of any combination of HAP. Gasoline vapors normally contain nine HAP: benzene, ethylbenzene, hexane, toluene, xylenes, isooctane, naphthalene, cumene, and methyl tert-butyl ether. Some gasoline distribution terminals and pipeline facilities were found to be major sources by themselves or to be located at major sources. Gasoline storage tanks at bulk terminals and pipeline breakout stations, loading racks at bulk terminals, vapor leaks from gasoline cargo tanks, and equipment components in gasoline service were emission sources that were regulated under the Major Source NESHAP. Area sources of HAP emissions within the source category (many bulk terminals and pipeline breakout stations and all pipeline pumping stations, bulk plants, and gasoline dispensing facilities) were not required to implement controls under the Major Source NESHAP.

CAA Section 112(k)(3)(B) requires EPA to identify not less than 30 HAP which, as the result of emissions from area sources, present the greatest threat to public health in the largest number of urban areas, and Section 112(c)(3) requires us to list sufficient area source categories or subcategories to ensure that emissions representing 90 percent of the 30 listed HAP (area source HAP) are subject to regulation under section 112(d) of the CAA. The Urban Air Toxics Strategy (Strategy), issued on July 19, 1999 (64 FR 38706) included a list of 30 area source HAP and a list of area source categories emitting the listed HAP.

CAA Section 112(d) standards include new and existing source maximum achievable control technology (MACT) standards, health threshold standards, and generally available control technology (GACT)/management practices standards for area sources. The standards that are the subject of this proposed rule are based on GACT pursuant to CAA section 112(d)(5).

Gasoline vapors contain 2 HAP (benzene and ethylene dichloride (EDC)) included among the 33 HAP listed under the Strategy. Gasoline distribution (Stage I) was listed in the Strategy because these facilities contributed approximately 36 percent of the national urban emissions of benzene and 2 percent of the EDC from stationary sources at area sources. Today we are proposing to add a subpart to 40 CFR part 63 to address gasoline distribution area sources and to fulfill our obligation under CAA section 112(c)(3) to regulate stationary sources of benzene. EDC emissions have already been controlled under the lead phase-down provisions of section 218 of the CAA.

CAA Section 112(c)(6) requires us to list those source categories emitting at least 90 percent of the aggregate emissions of each of 7 specific pollutants and to develop MACT or health threshold standards to reduce the emissions of these pollutants. On November 8, 2002 (67 FR 68124), we revised the list of area sources under CAA section 112(c)(6) and added gasoline distribution to control emissions of polycyclic organic matter (POM), one of the CAA section 112(c)(6) pollutants. As discussed later in this action, we have concluded that it is not necessary to regulate the gasoline distribution source category under CAA section 112(c)(6).

II. Summary of Proposed Rule for Area Sources

We are proposing and taking public comment on two regulatory alternatives. The first alternative (Regulatory Alternative 1) requires controls at bulk gasoline distribution facilities, which include bulk gasoline terminals, pipeline facilities, and bulk gasoline plants. The second alternative (Regulatory Alternative 2) requires controls at both bulk gasoline distribution facilities and gasoline dispensing facilities.

A. What source category would be affected by this proposed rule?

The source category that would be affected by this proposed rule is gasoline distribution (Stage I) area source facilities. This source category includes area source facilities that perform the operations necessary to distribute gasoline, beginning at the point the gasoline leaves the refinery production process and ending when the gasoline is loaded into the storage tanks at gasoline dispensing facilities (these operations are referred to as “Stage I” distribution). The five types of facilities that make up this distribution chain are identified in the following paragraphs. Vehicle refueling (Stage II distribution) is not covered by this proposed rule because, as stated in the Strategy, we believe this is consistent with Congress' intent to regulate these emissions through CAA sections 182(b)(3) and 202(a)(6).

Bulk gasoline terminals are large storage facilities that receive gasoline directly from the refineries via pipelines, barges, or tankers (or are co-located at refineries). Gasoline from the bulk terminal storage tanks is loaded into cargo tanks (tank trucks or railcars) for distribution to smaller, intermediate storage facilities (bulk plants) or directly to gasoline dispensing facilities (retail public service stations and private service stations).

There are two types of pipeline facilities found at various intervals along gasoline distribution pipelines. Pipeline breakout stations receive gasoline via pipelines, store it in storage tanks, and re-inject it into pipelines as needed to meet the demand from downstream facilities. Pipeline pumping stations are located along the entire length of a pipeline at about 40 mile intervals. Their purpose is to provide the extra “push” needed to move the product through the pipeline. They do not normally have gasoline storage capability.

Bulk gasoline plants are intermediate storage and distribution facilities that normally receive gasoline from bulk terminals via tank trucks or railcars. Gasoline from bulk plants is subsequently loaded into tank trucks for transport to local dispensing facilities.

Gasoline dispensing facilities include both retail public outlets and private dispensing operations such as rental car agencies, fleet vehicle refueling centers, and various government motor pool facilities. Gasoline dispensing facilities receive gasoline via tank trucks from bulk terminals or bulk plants. As mentioned earlier, the source category only includes the delivery of gasoline at gasoline dispensing facilities and does not include the vehicle refueling activities or equipment.

B. What would be the affected sources and emission points?

Under Regulatory Alternative 1, the affected sources to which this proposed rule would apply are each bulk gasoline terminal, pipeline breakout station, pipeline pumping station, and bulk gasoline plant. Under Regulatory Alternative 2, the affected sources are those listed above plus each gasoline dispensing facility. You are subject to the requirements in this subpart if you own or operate one or more of the affected sources identified above and they are area sources.

For each of the facility types, the emission points subject to control under this proposed rule include the transfer and storage equipment in gasoline service. The sources of emissions at bulk terminals that would be subject to control under this proposed rule include gasoline storage tanks, cargo tank loading racks, cargo tanks being loaded, and equipment components in liquid or vapor gasoline service. At pipeline breakout stations and pumping stations, gasoline storage tanks and equipment components in liquid or vapor service would be emission points subject to control under this proposed rule. At bulk plants this proposed rule would control emissions from the loading of gasoline into storage tanks and the emissions from the loading of gasoline cargo tanks. If we decide to promulgate Regulatory Alternative 2, then controls would also be required at gasoline dispensing facilities to control emissions from the loading of gasoline into storage tanks.

C. What would be the emission limits, equipment standards, and work practice standards?

This proposed rule would require that emissions from storage tanks that meet the applicability criteria at area source bulk gasoline terminals and pipeline breakout stations be reduced by 95 percent, either through the use of specified floating roofs and seals or through an alternative technology such as a closed vent system and control device. This proposed rule would also require that cargo tank loading rack emissions at bulk gasoline terminals be reduced to a level of 80 milligrams, or less, per liter of gasoline loaded into cargo tanks.

Bulk terminal owners and operators also must not allow the loading of cargo tanks that do not have the appropriate vapor tightness testing documentation. Before loading at an affected bulk terminal, the owner or operator of a cargo tank must present documentation of passing the vapor tightness test to demonstrate, using EPA Reference Method 27 or equivalent, that they meet a maximum pressure or vacuum decay rate of 3 inches of water, or less, during a 5-minute test period. Some States have other practices or requirements to ensure that vapor tight cargo tanks are vapor tested and those alternative requirements will be allowed, as specified, under this proposed rule as well.

This proposed rule would require the implementation of a monthly equipment leak inspection at bulk terminals, bulk plants, pipeline breakout stations, and pipeline pumping stations. The standards allow a sight, sound, and smell inspection of all equipment components in gasoline liquid or vapor service. Any leaking equipment components would have to be repaired within a specified time period.

At bulk plants in all counties nationwide this proposed rule would require the use of submerged filling of gasoline storage tanks and cargo tanks. If we decide to promulgate Regulatory Alternative 2, then gasoline dispensing facilities in Urban 1 and Urban 2 areas ¹ will be required to use submerged filling of gasoline storage tanks. The submerged filling requirement could be met by either bottom filling or the use of a fill pipe that extends to within 6 inches of the bottom of the tank being filled.

¹ Urban 1 areas means counties are part of a metropolitan statistical area with a population greater than 250,000, based on the 1990 and the most current U.S. Census Bureau statistical decennial census data. Urban 2 areas means counties where more than 50 percent of the population is classified by the U.S. Census Bureau as urban, based on the 1990 and most current U.S. Census Bureau statistical decennial census data.

D. What would be the testing and initial compliance requirements?

This proposed rule would require that control devices being used to reduce emissions from loading racks at bulk terminals be tested to demonstrate that they comply with the emission limit. Closed vent systems and control devices used to reduce emissions from storage tanks would also have to be tested to demonstrate that they comply with the emission limit. There are, however, options that allow for the use of recent performance tests or documentation that the devices are complying with enforceable State, local, or tribal operating permits in lieu of performing a new test.

Affected facilities that utilize control devices (vapor processors) to comply with the emission limits for storage tanks or loading racks at bulk terminals would be required to monitor an operating parameter to demonstrate continuous compliance with the emission limits. The monitored operating parameter value would be determined during a performance test or by engineering assessment. An operating parameter monitoring approach approved by the permitting authority, and included in an enforceable operating permit, would also be allowed as an alternative.

Annual inspections of storage tank roofs and seals would be required for bulk terminals and pipeline breakout stations. Such inspections would be conducted using the same procedures required in 40 CFR part 60, subpart Kb, Standards of Performance for Volatile Organic Liquid Storage Vessels (Storage Vessels New Source Performance Standards (NSPS)).

In addition, each owner or operator of a bulk gasoline terminal would be required to monitor the loading of gasoline into gasoline cargo tanks to limit the loading to vapor-tight gasoline cargo tanks. The owner or operator of each gasoline cargo tank loading at an affected bulk terminal would, therefore, be required to perform vapor tightness testing on each cargo tank to demonstrate compliance with the maximum allowable pressure and vacuum change of 3 inches of water, or less, in 5 minutes. Vapor tightness testing would be performed using EPA Reference Method 27. Railcar cargo tanks can use the alternative “Railcar Bubble Leak Test Procedures” or an approved equivalent.

E. What would be the notification, recordkeeping, and reporting requirements?

Affected sources that are subject to the control requirements under this proposed rule would be required to submit four types of notifications or reports as set forth in the General Provisions: (1) Initial Notification; (2) Notification of Compliance Status; (3) periodic reports; and (4) other reports. The Initial Notification apprises the regulatory authority of applicability for existing sources or of construction for new sources. This notification also includes a statement as to whether the facility can achieve compliance by the required compliance date. The Notification of Compliance Status demonstrates that compliance has been achieved. This notification contains the results of initial performance tests and a list of equipment subject to the standard. Periodic reports would be required on a semiannual basis. The semiannual compliance report would inform the regulatory authority of the results of required inspections or additional testing results. An excess emissions report, if applicable, would be submitted with the semiannual compliance report and would be required if excess emission events occur. Excess emission events would include events such as the loading of a cargo tank that does not have documentation of vapor tightness testing, deviations from acceptable operating parameter values, or equipment leaks that are not repaired within the required time.

Other reports are also required under the General Provisions, generally on a one-time basis, for events such as a notification before a performance test or a storage vessel inspection. Reporting these events allows the regulatory authority the opportunity to have an observer present.

Reporting requirements for owners or operators of bulk plants and gasoline dispensing facilities would be limited in most cases to the Initial Notification and the Notification of Compliance Status. Those bulk plants that are located in States that require the use of submerged fill would not be required to submit these notifications. The same would be true for gasoline dispensing facilities if we pursue Regulatory Alternative 2 in the final rule. Because these facilities are subject to only submerged fill requirements (plus equipment leak inspections at bulk plants), we believe that additional reporting after compliance is achieved is unnecessary.

Records required under this proposed rule must be kept for 5 years. These include records of cargo tank vapor tightness test certifications, records of storage tank and equipment component inspections, and records of monthly throughput.

III. Not Regulating This Source Category Under CAA Section 112(c)(6)

Section 112(c)(6) of the CAA requires us to list those source categories emitting at least 90 percent of the aggregate emissions of each of seven specific pollutants and to develop MACT or health threshold standards for the sources listed under this provision. Alkylated lead compounds and POM are the only two of the seven CAA section 112(c)(6) pollutants that were identified in gasoline.

Historically, the use of lead as a gasoline additive in onroad vehicles contributed significantly to the nationwide inventory of alkylated lead emissions. However, section 211(n) of the CAA prohibited the distribution or sale of leaded gasoline for use in motor vehicles as of December 31, 1995. This prohibition has eliminated alkylated lead emissions from the gasoline distribution (Stage I) source category. Lead emissions presented in the 1990 inventory of the seven CAA section 112(c)(6) pollutants were based on Department of Energy gasoline consumption data indicating that 1 percent of the onroad motor vehicle fuel distributed was leaded fuel. The distribution of this leaded fuel was estimated to result in 0.086 tons of alkylated lead emissions. The data used in developing the 1990 inventory are, however, not applicable since the ban on the sale of leaded gasoline went into effect. Additionally, as we explained when listing other source categories of alkylated lead (see 67 FR 17838, April 10, 1998), the ban on leaded gasoline in onroad vehicles was recognized and the gasoline distribution (Stage I) source category was not listed for alkylated lead emissions.

On November 8, 2002 (67 FR 68124), the area source gasoline distribution (Stage I) source category was added to the list of source categories for development of standards under CAA section 112(c)(6) toward the 90 percent requirement for POM. As explained in the November 8, 2002 Federal Register notice, one surrogate for POM is the sum of 16 polynuclear aromatic hydrocarbon compounds (16-PAH) measured in EPA Test Method 610. Naphthalene is the only estimated and reported 16-PAH in the 1990 inventory emitted from gasoline distribution (Stage I) facilities. We estimated and reported the 1990 inventory for major source and area source naphthalene emissions from this source category to be 35.5 tons and 320 tons, respectively. The total 1990 inventory for all source categories for 16-PAH was presented as 8,405 tons. According to inventory support documentation, naphthalene emission calculations were based on 0.05 weight percent naphthalene in gasoline vapors.

The American Petroleum Institute (API) submitted data in late 2005 to support their concern that we had over-estimated the naphthalene emissions. We evaluated the API data along with the data from other external sources, and from EPA, that were used for the original listing inventory, and concluded that instead of using a naphthalene content in gasoline vapor of 0.05 weight percent, we should use a value of 0.00027 weight percent.

Using the corrected fraction in gasoline vapor, we now estimate that the 1990 inventory for major source and area source naphthalene emissions from this source category should be 0.19 tons and 1.73 tons, respectively. In addition, the total 1990 inventory of 16-PAH is reduced to 8,051 tons. Thus, gasoline distribution facilities (area sources) contribute only 0.02 percent of the total 16-PAH (1.73 tons out of 8,051 tons) and is not needed to meet the 90 percent requirement for POM in CAA section 112(c)(6).

As a result of this revision to the 1990 naphthalene inventory, we do not intend to regulate this source category under CAA section 112(c)(6).

IV. Rationale for This Proposed Rule

A. How did we select the source category?

We listed area source gasoline distribution (Stage I) facilities in July 1999 pursuant to section 112(c)(3) of the CAA to ensure that area sources representing 90 percent of the area source emissions of the 30 HAP that present the greatest threat to public health in the largest number of urban areas are subject to regulation under CAA section 112. This listing was based on information showing that emissions from the gasoline distribution source category (Stage I) contribute at least 36 percent and 2 percent of the national urban emissions of benzene and EDC, respectively, two of the 33 listed area source HAP.

EDC was added to leaded gasoline to serve as a lead scavenger and prevent the unwanted buildup of lead deposits in engines. With the implementation of restrictions on the sale of leaded gasoline (as discussed in Section III of this preamble) for use in passenger vehicles, however, the use of EDC was also discontinued. Thus, while no regulatory actions were implemented specifically to address EDC emissions from gasoline distribution, its use has been eliminated. As a result of these actions, the gasoline distribution source category is no longer a significant contributor to nationwide EDC emissions and its use will not be discussed further in this preamble.

The gasoline distribution (Stage I) source category's contribution to the total nationwide emissions of benzene is, therefore, the reason this source category was selected for regulatory development.

B. How did we select the affected sources and emission points?

1. Affected Sources

As summarized in this preamble at Section II.A, Regulatory Alternative 1 proposes to regulate HAP emission points at bulk terminals, pipeline breakout stations, pipeline pumping stations, and bulk plants. Regulatory Alternative 2 proposes to regulate all of the HAP emission points covered by Regulatory Alternative 1, and gasoline dispensing facilities, which are not covered by Regulatory Alternative 1. Each of these five types of facilities that make up the Stage I gasoline distribution chain were analyzed during the preparation of the CAA section 112 listing inventory and each type of facility contributes to the 36 percent of nationwide benzene emissions from this source category.

2. Emission Points

During the development of the proposed rule, we evaluated each emission point at each of the five types of affected sources as candidates for additional control requirements. We found that there are available control techniques applicable to each of the emission points within the source category. In addition, emission points at major source bulk terminals and pipeline breakout stations are subject to Federal regulation under the Major Source NESHAP, the 1983 New Source Performance Standards for Bulk Gasoline Terminals (the Bulk Terminals NSPS), and the Storage Vessels NSPS. The control techniques used to comply with these Federal rules are also applicable to the corresponding emission points at area sources. We also found that there are numerous State standards that apply to these emission points at many area source gasoline distribution facilities, including those facilities located in ozone non-attainment areas and in States that have implemented air toxics programs. The following paragraphs provide a summary of our analysis of each emission point.

Bulk Terminals. The four emission points at bulk terminals are: (1) Emissions from loading racks when gasoline is loaded into cargo tanks, (2) fugitive leakage of vapors from cargo tanks during loading of gasoline, (3) evaporation of gasoline from storage tanks, and (4) equipment leaks from pumps, valves, and other components.

Emissions occur at loading racks when gasoline that is loaded into cargo tanks displaces vapors inside these containers. These emissions may occur either uncontrolled (when facilities are not using vapor collection and processing equipment) from cargo tank compartments or from the outlet vents of control systems used to process these displaced vapors.

Emissions from loading racks are typically controlled by venting the displaced vapors to a control device, such as a thermal oxidizer or a carbon adsorber. Loading racks at major sources are controlled under the Bulk Terminals NSPS and the Major Source NESHAP, and many States also require controls on these sources. Considering the current control level that is applied to this emission point by State and local rules, we estimate the baseline emissions from this emission point to be 2,353 tons of HAP per year, nationwide.

Fugitive emissions from leaking cargo tanks may occur, even at controlled loading racks (those equipped with vapor collection and processing systems), through the dome or hatch covers, pressure-vacuum relief valves or vents, hose couplings, or even the cracks in the welds of the cargo tank shell.

Vapor tightness testing is used as a means of identifying and controlling fugitive emissions from leaking cargo tanks. The Bulk Terminals NSPS and the Major Source NESHAP require vapor tightness testing for cargo tanks loading at major sources and many States in ozone non-attainment areas require that affected source bulk terminals limit the loading of gasoline into cargo tanks that have been tested and certified to be vapor tight. Baseline emissions from leaking cargo tanks, considering current control requirements, are estimated to be about 2,323 tons of HAP per year, nationwide.

Storage tanks at bulk terminals may be of either fixed roof, external floating roof, or fixed roof with an internal floating roof construction. Although the precise mechanisms involved vary between the different types of storage tanks, emissions originate from storage tanks when liquid gasoline in the tank is exposed to air, resulting in the evaporation of the liquid. The vapors that are produced by this evaporation are subsequently released to the atmosphere either directly (in the case of an external floating roof tank), when it is displaced by incoming gasoline, or when the pressure of the vapor buildup in the tank is sufficient to open a pressure/vacuum vent in the tank.

The primary means of controlling emissions from storage tanks is the use of systems that reduce the exposed surface area of the liquid in the tank. Floating roofs, with various types of rim seals and gasketed fittings around penetrations in the roof, are typically required at major sources by applicable Federal rules (the Major Source NESHAP and the Storage Vessels NSPS). Many State standards have similar requirements for storage tanks at area source facilities. We have estimated that the baseline emissions from storage tanks at bulk terminals, considering current control requirements, are about 4,000 tons of HAP per year, nationwide.

Equipment leaks from pumps, valves, and other equipment components occur when the seals found in these items become worn or damaged. Emissions from pumps arise from liquid gasoline leaking from packed or mechanical seals in the pumps used to move the product through the pipeline. Leaks also occur from seals around stems of valves and other equipment components that control or isolate gasoline from the environment such as connections, drain lines, and pressure relief devices.

Periodic inspection of equipment components is the only control technique that we have identified in the applicable Federal and State rules. These inspections typically are required on a monthly or quarterly basis, are performed using sight, sound, and smell observations, and any leaking components are required to be repaired within a specified period of time. We have estimated that the baseline emissions from equipment leaks at bulk terminals, considering current control requirements, are 37 tons of HAP per year, nationwide.

Pipeline Breakout Stations. The two emission points typically found at pipeline breakout stations are gasoline storage tanks and equipment leaks. Storage tank and equipment component (pumps and valves) leak emissions at pipeline breakout stations are identical in the manner of their occurrence and the applicable control techniques to those described above for bulk terminals. However, HAP emission rates are not the same due to differences in turnover rates and storage tank sizes as well as differences in the numbers of estimated equipment components in the process line piping between the two facility types. We have estimated that the nationwide baseline emissions from storage tanks and equipment leaks at pipeline breakout stations, considering current control requirements, are 1,100 and 160 tons of HAP per year, respectively.

Pipeline Pumping Stations. At pipeline pumping stations the only type of HAP emission sources that are normally found are equipment leaks from components such as pumps and valves. We found that fugitive emissions from equipment leaks at pipeline pumping stations are typically unregulated by States. However, this emission source and the applicable control technique are the same as those found at bulk terminals and pipeline breakout stations. We have estimated that the baseline emissions from equipment leaks at pipeline breakout stations, considering current control requirements, are 7 tons of HAP per year, nationwide.

Bulk Plants. The types of gasoline distribution activities and emission sources found at bulk plants are similar to those found at bulk terminals. Because of the size and throughput differences between these two types of affected sources, however, there are differences in the equipment configurations and the types of emission controls normally found at bulk plants.

Storage tanks at bulk plants are typically fixed roof tanks and below the size cutoff criteria for floating roof requirements in Federal and State rules. While there may be some storage tanks at bulk plants that are large enough to be subject to the control requirements typically applicable at bulk terminals, most are uncontrolled. Because bulk plants typically receive gasoline from cargo tanks, the loading of gasoline into the storage tanks at bulk plants can be a significant source of emissions if the tanks are not equipped for submerged filling. We found that some States do not regulate bulk plants, while those States with applicable standards typically require that the loading of storage tanks utilize submerged filling and the vapor balancing of the storage tank with the delivery vehicle. By utilizing vapor balancing, the gasoline vapors that would be released to the atmosphere are instead routed into the cargo tank for return to the bulk terminal for vapor processing. We have estimated the nationwide baseline HAP emissions from the loading of storage tanks at bulk plants to be about 4,350 tons of HAP per year.

The loading of cargo tanks at some bulk plants is also done by top loading (splash filling) gasoline into the cargo tank compartments. This method results in increased emissions compared to bottom loading. Those States that regulate this activity typically require the use of submerged filling and a vapor balancing system to route the vapors displaced from the cargo tank back into the bulk plant storage tank. We have estimated the nationwide baseline HAP emissions from the loading of cargo tanks at bulk plants to be about 2,170 tons of HAP per year.

Fugitive emissions from bulk plants are similar to those at bulk terminals in that they originate from liquid or vapor leaks in equipment components. Because bulk plants are much smaller than bulk terminals, however, both the number of fugitive emission sources and the magnitude of the fugitive emissions are typically much less than those found at bulk terminals. Periodic equipment leak inspections are the only control technique identified that would be applicable to reduce emissions from equipment leaks. We found that equipment leak emissions at bulk plants are, however, typically unregulated. We have estimated the nationwide baseline HAP emissions from equipment leaks at bulk plants to be 15 tons of HAP per year.

Gasoline Dispensing Facilities. The only Stage I activities that occur at gasoline dispensing facilities are the loading of gasoline into the storage tanks and the subsequent storage of the gasoline in these tanks. There are, however, various configurations of equipment used in these activities. Most gasoline dispensing facilities utilize underground storage tanks and the emissions from these tanks occur primarily as a result of the displacement of vapors during the filling of the tanks. In addition, storage tanks at some gasoline dispensing facilities are not equipped for submerged filling and filling is accomplished by simply “splash-filling.”

We found that many States require that the filling of storage tanks at gasoline dispensing facilities be controlled through the use of submerged filling and by a vapor balance system where the displaced vapor from the storage tank is collected and routed back to the cargo tank during delivery. The vapor collected in the cargo tank is then returned to the bulk terminal and routed to a vapor processor when the cargo tank is loaded. We have estimated the nationwide baseline HAP emissions from the filling of storage tanks at gasoline dispensing facilities to be about 19,000 tons of HAP per year.

C. How did we determine the level of this proposed rule?

1. Approach

Our approach to determining the level of this proposed rule was based on the statutory requirements of CAA section 112(c)(3). Section 112(c)(3) requires standards that comply with CAA section 112(d), which specifies that standards may be developed using either the MACT approach, a health threshold approach, or the GACT and management practices approach.

As discussed earlier, this source category was listed for benzene emissions. Many carcinogens, including benzene, do not have a health threshold, thus the health threshold approach was not evaluated. Therefore, our approach was to assess the regulatory options based on the GACT, management practices, and MACT levels of control. Under this approach we evaluated each emission point within the source category and identified the control options that we found to be applicable to each emission point within the source category. As we discuss later in this section of the preamble, we developed three regulatory alternatives based on our analysis of current levels of control and progressively adding more stringent levels of control. In adding more stringent levels of control, we did not reach, prior to making the proposed decision, the MACT (average of the best performing 12 percent of the sources) level of control for all emission sources. The three regulatory alternatives that we discuss later and considered in this proposal are GACT levels of control.

2. Control Options

Our first step in developing the control options for each emission point under this proposed rule was an evaluation of the existing controls required by the various Federal, State, and local agencies that regulate gasoline distribution facilities. We found that most States regulate some or all of the emissions points at area sources in the gasoline distribution source category. In addition, many of these emission points are subject to control under the Bulk Terminals NSPS, the Major Source NESHAP, and the Storage Vessels NSPS at the major source bulk terminals and pipeline breakout stations.

For each emission point, we identified and evaluated the various levels of control that are currently required by Federal and State standards. Each discrete level of control that we evaluated was considered to be a control option for the emission point. For example, three discrete levels of control were identified in State standards and in the Bulk Terminals NSPS and the Major Source NESHAP for emissions from loading racks at bulk terminals. These levels are expressed in terms of milligrams of total organic compounds emitted per liter of gasoline loaded into cargo tanks (mg/l) and are 80 (in several State rules), 35 (in some State rules and in the Bulk Terminals NSPS), and 10 (in some State rules and in the Major Source NESHAP). Therefore, in evaluating potential levels of control for this proposed rule, we analyzed each of these three levels of control as a control option for bulk terminal loading racks.

The process of identifying and evaluating control options was repeated for each of the gasoline distribution source category emission points that were discussed in Section B.2 of this preamble.

3. Regulatory Alternatives

After we identified and evaluated the control options for each emission point within the source category we developed a series of regulatory alternatives. Each regulatory alternative consisted of one control option for each emission point at each facility type. We began our regulatory alternatives development with the most cost effective control options as Regulatory Alternative 1 and then added the more stringent control options found in subsequent regulatory alternatives.

We also included in our development of regulatory alternatives a baseline or “no additional control” control option for the emission points. Including this control option for certain emission points provided us the flexibility to develop a regulatory alternative that required, for example, additional controls for larger emitting facilities, but not for smaller facilities.

Another factor we considered when developing the regulatory alternatives was whether to require the controls in all counties nationwide or to make the standards applicable only in urban areas. We presented our position on this issue in the Strategy. We stated that while our expectations are to apply area source standards under CAA section 112(k) in all counties nationwide, we would also determine for each area source standard whether it is more appropriate to apply that particular standard in all counties nationwide or only in urban areas. For this proposal, we started with the Urban 1 and Urban 2 area definitions we used in the Strategy.² These definitions were used to identify a list of counties based on the 1990 census data. We then modified the list of counties to add new Urban 1 and Urban 2 counties based on the 2000 census data. We are requesting comment on using this Urban 1 and Urban 2 approach to defining urban areas, and on any other approach or definition that would better define where people live in urban areas, such as densely populated areas with 2,500, 50,000, or 250,000 people.

² Urban 1 areas means counties are part of a metropolitan statistical area with a population greater than 250,000. Urban 2 areas means counties where more than 50 percent of the population is classified by the U.S. Census Bureau as urban.

Using the factors presented in the preceding paragraphs, we developed numerous regulatory alternatives for consideration. We evaluated the potential HAP reductions, capital and annualized costs, and cost-effectiveness of each regulatory alternative. (Our analyses can be found in Docket ID No. EPA-HQ-OAR-2006-0406.) We then ranked the regulatory alternatives starting with the most cost-effective and progressing to those that were less cost-effective and, in most cases, required more stringent control. Based on our evaluation of the series of regulatory alternatives, we determined that three regulatory alternatives were viable candidates for evaluation and discussion.

Regulatory Alternative 1. The first regulatory alternative that we considered for the proposed rule was based on those control options that were found to be the most cost effective controls for the larger bulk facilities (bulk terminals, bulk plants, pipeline breakout stations, and pipeline pumping stations). Under this regulatory alternative, gasoline dispensing facilities would not be subject to control requirements beyond those already implemented by State and local standards, unless they have storage tanks with a capacity greater than 20,000 gallons. We selected this regulatory alternative for consideration because facilities in the bulk segment of the source category are larger facilities.

We chose to apply the controls required under Regulatory Alternative 1 to all counties nationwide rather than only in urban areas. As discussed earlier, we generally develop area source standards that are applicable to all counties nationwide unless we believe it is more appropriate to apply standards only in urban areas. The emission controls required under this regulatory alternative would result in a net credit to the affected facilities because they would prevent the loss (through evaporation) of enough gasoline to more than pay for the costs of the controls. Therefore, this is an appropriate alternative for all facilities and locations.

Under Regulatory Alternative 1, the level of control for large (greater than 20,000 gallon capacity) storage tanks is the same as that required under the Major Source NESHAP. Storage tanks of this size are typically found at bulk terminals and pipeline facilities, although in rare cases they may be at bulk plants or gasoline dispensing facilities. These tanks would be controlled by installation of floating roof technology with the best rim seals on all tanks and fitting controls on external floating roof tanks. As discussed in the Major Source NESHAP final rule notice, fitting controls on internal floating roof tanks have a poor HAP cost-effectiveness. Therefore, they are not included under this regulatory alternative. As an alternative to the installation of floating roof technology, storage tanks may be equipped with a closed vent system and control device designed and operated to reduce emissions by 95 percent. This level of control has been found to be the most cost-effective level available. Our analysis of current control requirements indicated that about 1,000 of the estimated 6,300 storage tanks at area source bulk terminals currently comply with this level of control for both rim and fitting seals. Approximately 1,560 additional storage tanks currently have the required rim seals and would only need to be upgraded by adding fitting seals. We estimate that the nationwide annual volatile organic compounds (VOC) and HAP reductions under this level of control would be 43,000 and 3,100 tons, the capital cost would be $57 million, and the annualized cost would be a credit of about $6 million. The nationwide cost-effectiveness of this level of control is, therefore, a savings of about $2,000 per ton of HAP reduction. Because the potential for evaporative losses of gasoline from these tanks is large, control options that are less stringent are less cost-efficient, after the recovery credit is considered.

The performance testing of control devices and the inspection of seals and gaskets, as required under the Major Source NESHAP, would also be required under Regulatory Alternative 1.

Loading racks at bulk terminals would also be subject to control under Regulatory Alternative 1. We found during our evaluation of State rules that these loading racks are generally required to install and operate vapor processors that are capable of controlling emissions to a level of no more than 80 milligrams of total organic compounds emitted per liter of gasoline loaded (mg/l). This level of control has been found to be the most cost-effective level available for vapor processing. Although we expect that a small number of uncontrolled facilities exist, we did not identify any bulk terminals during our analysis that are not meeting a control level of 80 mg/l. Since our analysis was completed, industry has collected information on these small terminals, as discussed in the next paragraph. While some State rules require emissions to be limited to 35 mg/l, and the MACT standard for major sources is 10 mg/l, the incremental cost-effectiveness of requiring these more stringent control levels is poor, especially if replacement of an existing vapor processor was necessary (about $40,000 per ton of HAP reduction). Therefore, since many terminals still have vapor processors meeting the 80 mg/l limit and they are cost-effective controls that are in widespread use, we are proposing a limit of 80 mg/l for bulk terminal loading racks in Regulatory Alternative 1. As mentioned above, we were unable to develop a reliable estimate of the small number of facilities that are not currently meeting a level of 80 mg/l at their loading racks. Therefore, rather than attempt to estimate nationwide emission reductions and costs, we estimated the potential impacts on an average sized loading rack. We estimated that this average facility would, through the installation of a carbon adsorber to meet the 80 mg/l control level, reduce their VOC and HAP emissions by about 620 and 45 tons. The capital expenditure for this control would be almost $1 million. After considering the value of the recovered product, however, the annualized cost would be a credit of about $54,000. The cost-effectiveness of this level of control for this average facility is, therefore, a credit of about $1,200 per ton of HAP reduction.

Recently, industry has gathered loading rack conversion and vapor processor installation costs (as well as small storage tank secondary seal costs) to demonstrate that these controls are not cost effective at small bulk terminals. We are currently reviewing this information and it is contained in the docket for public review and comment. Based on our review of this data and comments and data received during the comment period, we will consider requiring small terminals (based on a yet to be determined daily throughput) to use submerged fill without processing the vapors to 80 mg/l.

To ensure that vapors in cargo tanks would be displaced into vapor processors, bulk terminal owners and operators would also be required, under Regulatory Alternative 1, to limit the loading of cargo tanks at their facilities to those cargo tanks that have passed a vapor tightness test. The requirement for an annual vapor tightness test of cargo tanks is found in many State rules and is also in the Bulk Terminals NSPS and the Major Source NESHAP. Vapor tightness is tested by EPA Reference Method 27, and is measured in terms of the change in pressure or vacuum observed, from an initial pressure of 18 inches of water or an initial vacuum of -6 inches of water, over a 5-minute test period. Many States have adopted a requirement specifying a maximum allowable change in pressure of 3 inches of water. This is also the level specified in the Bulk Terminals NSPS for new loading racks. Our analysis of cargo tank tightness testing requirements indicated that approximately 22,000 cargo tanks out of an estimated 23,800 vapor collection-equipped cargo tanks already comply with this control level. We estimate that the nationwide annual VOC and HAP reductions under this level of control would be about 1,220 and 90 tons. Because maintenance costs and testing costs are the only costs associated with this option, there is no capital cost associated with this option, and the annualized cost would be about $0.2 million. The nationwide cost-effectiveness of this level of control is, therefore, about $2,250 per ton of HAP reduction. However, because the vapor processor control requirement and vapor tightness requirement for cargo tanks ensures that vapors are controlled, the combined cost-effectiveness of these controls is about $1,000 per ton of HAP controlled.

Some other States, and the Major Source NESHAP, specify a maximum change of 1 inch of water. Because our analysis showed that the incremental cost-effectiveness of requiring the 1-inch maximum pressure decay versus the 3-inch maximum pressure decay was high (about $30,000 per additional ton of HAP reduced), we chose to keep the 3-inch maximum pressure decay level in Regulatory Alternative 1.

Our analysis of the emission points and controls applicable to bulk plants led us to conclude that the most cost-effective means of reducing HAP emissions is the conversion from splash filling to submerged filling of storage tanks and cargo tanks. Approximately 5,500 out of 5,900 bulk plants are estimated to utilize submerged fill. We estimate that the nationwide annual VOC and HAP reductions under this level of control would be about 860 and 108 tons, the capital cost would be $2 million, and the annualized cost would be $30,000. The nationwide cost-effectiveness of this level of control is, therefore, about $300 per ton of HAP reduction when converting to submerged filling of both the storage tanks and cargo tanks. Because bulk plants are typically much smaller facilities than bulk terminals, and have much lower storage capacity and gasoline throughput, the types of controls that are normally cost-effective at bulk terminals are much less cost-effective at bulk plants. For example, bulk plant storage tanks are normally below the size in which internal floating roof technology is typically installed. Also, while the use of vapor balancing between storage tanks and cargo tanks is required by some States, the cost-effectiveness of this requirement was estimated to be about $10,000 per ton of HAP reduced. As a result of the difference in cost-effectiveness, we have elected to include in Regulatory Alternative 1 the requirement that bulk plants utilize submerged filling of storage tanks and cargo tanks.

Also included in Regulatory Alternative 1 is the requirement that bulk terminals, bulk plants, pipeline breakout stations, and pipeline pumping stations perform a monthly equipment leak inspection. During the development of the Major Source NESHAP, we concluded that an equipment leak inspection program utilizing sight, smell, and sound techniques was an effective way to identify leaking components in gasoline service. Although leaking equipment components are normally a small source of HAP emissions compared to some of the other emission points in the source category, the fact that owners or operators generally perform inspections for safety reasons makes the inspection program an attractive option. We did not attempt to quantify the emissions reductions and costs for this level of control because the percentage of owners or operators who are already doing similar inspections, while believed to be a large percentage, is not known. If, as believed, a large percentage of facilities are already being inspected for equipment leaks, the added emission reductions and costs associated with this proposed rule would be small.

We also included in Regulatory Alternative 1 a work practice standard that requires all affected sources to handle gasoline in a manner that reduces vapor releases. This requirement includes steps such as minimizing spills and not storing gasoline in open containers. As with the equipment leak inspection program, these simple actions have been included as a work practice standard in Regulatory Alternative 1.

The implementation of Regulatory Alternative 1 would result in an estimated HAP reduction of about 3,300 tons per year, of which about 120 tons would be benzene. As discussed later in this preamble, we estimate that this alternative will reduce incidences of cancer from benzene exposure by 0.037 cases per year. These reductions would be achieved with an initial capital investment estimated at $60 million nationwide. Because of the value of the product that is prevented from evaporating as a result of these control measures, however, the annualized cost of Regulatory Alternative 1 is estimated to be a credit of approximately $6 million per year. The cost-effectiveness of this Alternative, therefore, would be a credit of about $1,800 per ton of HAP reduced.

As an option to regulatory Alternative 1, we are also considering the adoption of a seals and floating roof technology for storage tanks at bulk terminals and pipeline facilities and controlling emissions from loading racks at bulk terminals. This option would reduce HAP emissions by 3,100 tons per year and VOC emissions by 43,000 tons per year. This option would achieve 94 and 90 percent of the emission reductions of Alternative 1 and 2 (discussed below), respectively. This option would reduce cancer incidence by roughly 0.035 cancers per year. We estimate that this option would require capital expenditures of $57 million, but because of the reduced loss of gasoline, this option would yield an annual cost savings of $6 million per year.

Regulatory Alternative 2. As discussed earlier, our approach in developing the regulatory alternatives was to first look at the most cost-effective controls at the larger bulk facilities, then to look at smaller (gasoline dispensing) facilities, typically located closer to the population. Regulatory Alternative 2, therefore, would require that storage tanks at gasoline dispensing facilities in Urban 1 and Urban 2 areas be filled using submerged fill and would also include all of the requirements of Regulatory Alternative 1. This Alternative would lead to additional HAP emission reductions in more populated areas compared to Regulatory Alternative 1.

As discussed in Section IV.B. of this preamble, the use of submerged filling results in about a 60 percent reduction in emissions compared to splash filling of storage tanks. We estimate that this technology is already used for the delivery of about 99 percent of the gasoline to gasoline dispensing facilities. However, because the remaining 1 percent accounts for over 1.3 billion gallons of gasoline, we estimated that an additional 100 tons of HAP emission reductions (1,370 tons of VOC) would be achieved through the implementation of the submerged fill requirement at gasoline dispensing facilities as specified in Regulatory Alternative 2. As discussed later in this preamble, we estimate that submerged fill will reduce incidences of cancer from benzene exposure by 0.002 cases per year. These additional reductions would be achieved at an additional $5 million in capital cost and an increase in the annualized cost of approximately $47,000. The cost-effectiveness of submerged fill at gasoline dispensing facilities is, therefore, about $470 per ton of HAP emissions reduced.

Our analysis showed that if the submerged fill requirement was applied in all counties nationwide rather than only in Urban 1 and Urban 2 areas (Regulatory Alternative 2), the additional HAP reductions would be about 36 tons per year from the approximately 700 additional facilities that would be required to add submerged fill. The total capital cost would increase by about $2 million and the annualized cost would increase by about $18,800. However, as stated earlier, our approach when adding controls for smaller facilities, in this case gasoline dispensing facilities, is to apply controls in the more populated areas. This focuses the emission reductions from this industry segment in urban areas, results in a larger percentage of the population receiving the benefits of reduced emissions and exposure to HAP, and reduces the overall cost of the rule. Therefore, we chose to only include in Regulatory Alternative 2 those gasoline dispensing facilities located in the more populated urban (Urban 1 and Urban 2) areas.

Regulatory Alternative 3. Continuing our approach of considering increasingly more stringent control levels, the next level of control that we considered for gasoline dispensing facilities was the requirement to vapor balance the loading of storage tanks. Regulatory Alternative 3 would include the requirement that all gasoline dispensing facilities located in Urban 1 areas utilize vapor balancing when loading gasoline into their storage tanks and would also include all of the requirements of Regulatory Alternative 2. Our analysis indicated that vapor balancing is already used for the delivery of about 68 percent of the gasoline to gasoline dispensing facilities.

For Regulatory Alternative 3, we evaluated a vapor balancing requirement based on typical State standards for gasoline dispensing facilities. We evaluated a control approach that included equipment and work practice standards and also allowed an option of demonstrating that alternative control techniques selected by owners or operators were equally effective. Under this approach, the equipment and work practice standards would specify the components and operation of an acceptable vapor balance system. The owners or operators would be allowed, however, to utilize other equipment configurations if they successfully demonstrated through performance testing that their system was capable of reducing emissions from the loading of their storage tanks by 95 percent. This regulatory approach is utilized by many State and local agencies because of the flexibility it allows.

The use of vapor balanced loading of storage tanks achieves significantly more HAP reductions compared to submerged filling. It is, however, much more costly and is a much less cost-effective requirement. Adding vapor balancing to gasoline dispensing facilities in Urban 1 areas would achieve over twice the HAP emissions reduction and incidences of cancer avoided of Regulatory Alternative 2 (7,000 tons per year compared to 3,400 tons per year, and 0.08 cases per year compared to 0.039 cases per year). These greater reductions would require the expenditure of an additional $99 million in capital cost and $38 million in annualized control cost. We estimate an incremental cost effectiveness of about $10,700 per ton of additional HAP reduced and a cost-effectiveness of about $4,600 per ton of HAP controlled for the combined alternative.

As was the case for Regulatory Alternative 2, we examined the impacts of applying standards in all counties nationwide versus applying standards only in urban areas. We chose to minimize the overall control cost of this Alternative by only requiring vapor balancing in the most populated (Urban 1) areas. If Regulatory Alternative 3 were applied in Urban 2 areas (as well as Urban 1 areas) or in all counties nationwide, the cost-effectiveness would be the same, but the HAP reductions would increase by about 100 tons per year and 180 tons per year, respectively, and the annualized costs would increase by about $30 million and $60 million, respectively.

4. Proposed Level of the Emission Limit and Work Practice Standards

Based on our analysis of the three regulatory alternatives presented here, we have decided to propose both Regulatory Alternatives 1 and 2 in this proposed rule. These Alternatives achieve significant HAP emissions reduction (3,300 or 3,400 tons per year), and, because most of the control measures included prevent the evaporation of gasoline, accomplishes those reductions at a credit of about $1,800 or $1,750 per ton of HAP reduction on a nationwide basis, respectively. While Regulatory Alternative 2 achieves only an additional 100 tons of HAP reduction, the incremental cost to achieve those reductions are small ($47,000 annualized cost). More importantly, the reductions are achieved at service stations located generally closer to the public and not subject to control under Regulatory Alternative 1. As presented later in this preamble, a rough approximation of incidences of cancer from benzene exposure indicates that gasoline distribution area sources contribute to a small number of annual incidences of cancer. Therefore, the additional incidence reduction between Regulatory Alternatives 1 and 2 is small.

The regulatory text included in this proposed rule implements Regulatory Alternative 2. We have proposed regulatory text for Regulatory Alternative 2 because that Alternative encompasses all of the facilities that would be subject to standards under Regulatory Alternative 1, plus gasoline dispensing facilities. If we finalize Regulatory Alternative 1 we will modify the regulatory text appropriately to remove the provisions applicable to gasoline dispensing facilities. We solicit comment on the proposed regulatory text.

We also solicit comment on whether we should finalize Regulatory Alternative 3 as described above which provides greater emission reductions and cancer incidence reductions than Alternatives 1 and 2.

Additionally, we solicit comment on whether we should select a final rule that is based on installation of seals and floating roof technology for storage tanks at bulk terminals and pipeline facilities and controlling emissions from loading racks at bulk terminals. The additional controls identified in Regulatory Alternatives 1 and 2 compared to this option for Alternative 1 would achieve additional reductions of HAP of 200 and 300 tons per year. These additional reductions represent a further reduction of only 6 to 10 percent of the reduction achieved by this option to Alternative 1. These additional reductions in HAP will yield a reduction in cancer incidence from exposure to benzene by roughly 0.002 to 0.004 cases per year. Controls in these alternatives would also reduce VOC emissions by an additional 2,100 to 3,500 tons per year. We estimate that these additional controls will result in capital costs of roughly $2 to $7 million and annual costs of roughly $230,000 to $280,000 per year. The rationale for adopting this alternative reflects a relatively greater emphasis on the limited additional reduction in HAP and VOC emissions and the limited additional reduction in cancer incidence associated with Alternatives 1 and 2.

Lastly, we are asking for comment on whether Regulatory Alternative 1 and the above option to that alternative should be required in all counties nationwide as proposed or just in urban areas. In addition, as discussed earlier, we are requesting comment on the use of Urban 1 and Urban 2 definitions or some other definitions to better define the urban areas where people live.

D. How did we select the format for this proposed rule?

Many owners or operators of affected sources under this proposed rule also own or operate other sources that are subject to control requirements under State rules or the Major Source NESHAP. The format selected for the proposed standards was developed based on our review of Federal and State rules affecting the same emission points at many facilities within the source category. Our goal was to set a format for each emission point that is compatible with the applicable test methods, that reflects the performance of the control technology, and is consistent with the formats used in other applicable rules. The proposed standards consist of a combination of several formats: numerical emission limits and operating limits, equipment standards, and work practice standards.

Numerical emission limits are feasible for storage tanks outfitted with a closed vent system and a control device. Because these devices must be tested to determine their performance level, a numerical emission limit is both reasonable and practical. For this control situation, we have proposed a percentage control efficiency (95 percent reduction in total organic compound emissions), which is consistent with the format used in the Major Source NESHAP as well as in the Refinery NESHAP (40 CFR part 63, subpart CC).

A numerical emission limit was also selected for loading racks controlled by vapor processors. We have proposed that emissions from loading racks must not exceed 80 mg of total organic compounds per liter of gasoline loaded through the loading rack. This is the same format that is used in the Bulk Terminals NSPS and the Major Source NESHAP for loading rack control, although the actual numerical limit is different.

You would also have the option of installing floating roof technology with specific types of rim and deck fitting seals for affected storage tanks. The floating roof option has been included in most Federal rules affecting petroleum storage tanks, including the Major Source NESHAP and the Storage Vessels NSPS. In selecting this equipment standard, we have maintained consistency with the control approach that most affected gasoline distribution facilities have used to comply with the Major Source NESHAP. Additionally, we are allowing selected equipment, work practice, monitoring, and recordkeeping standards in the more recent floating roof storage vessel standards (40 CFR 63, subpart WW, National Emission Standards for Storage Vessels (Tanks)—Control Level 2), as an alternative to the rule text in the Storage Vessels NSPS and Major Source NESHAP.

The proposal provides that bulk plants and, under Regulatory Alternative 2, gasoline dispensing facilities, must implement an equipment standard to reduce emissions from the loading of storage tanks and cargo tanks. This equipment standard requires the use of submerged fill pipes for loading activities at these facilities. Similar equipment standards are found in many State rules that affect bulk plants and gasoline dispensing facilities.

For equipment leak emission controls, we have selected a work practice standard, a monthly equipment leak inspection that is consistent with the format found in the Major Source NESHAP for major sources and other industrial standards. This format was selected because, during the development of the Major Source NESHAP, it was found to be as effective as an instrument-based leak detection and repair program for detecting gasoline leaks at bulk terminals. Under this work practice standard, leaks that are discovered must be repaired within 15 days.

Another work practice standard applicable at affected sources requires that gasoline be handled in a manner that reduces fugitive emissions from spills and open containers. This work practice standard is also found as a requirement of the major source NESHAP.

An additional work practice standard in combination with an emission limit has been selected for ensuring that only vapor tight cargo tanks are loaded at bulk terminals so that the gasoline vapors will be transferred to the vapor processor. The proposed standard requires that owners or operators of bulk terminals take steps to ensure that any cargo tank loaded has been tested for vapor tightness as measured by EPA Reference Method 27, or an acceptable alternative. This work practice standard is consistent with the format of the Bulk Terminals NSPS and the Major Source NESHAP for vapor tight cargo tanks and requires that a pressure or vacuum change of no more than 3 inches be achieved during a 5-minute test period.

E. How did we select the proposed testing and monitoring requirements?

In our evaluation of the potential testing and monitoring requirements for this proposed rule, we considered the requirements found in various Federal and State rules. While the Federal requirements we evaluated apply only to major sources within the gasoline distribution source category, the State and Federal new source rules also apply to area sources. As a result of our evaluation, we have elected to include certain testing and monitoring requirements from existing Federal regulations as well as requirements found in some State rules. The testing and monitoring requirements that we have included in this proposed rule are intended to ensure that the objective of achieving significant emission reductions on a continuous basis is met without imposing an undue burden on the affected sources.

The proposed standards require initial performance testing and continuous operating parameter monitoring for vapor processor systems, annual vapor tightness testing of cargo tanks, periodic visual inspections and seal gap measurements of floating roofs, and monthly inspections of equipment components in gasoline service.

We are proposing continuous monitoring of operating parameters as a measure to certify and document continuous compliance of the vapor processing systems. The testing, continuous monitoring, and inspection requirements in this proposed rule are based on those in the Major Source NESHAP. In addition to these requirements, we are proposing the monitoring of the presence of a pilot flame as an alternative to temperature monitoring of thermal oxidation units. Industry has raised concerns with temperature monitoring that leads us to propose this alternative. Due to the cyclic nature of the emissions during loading operations, some facilities have found the selection of an appropriate target temperature problematic. Moreover, to compensate, some facilities may burn excess amounts of supplemental fuel (natural gas) to maintain temperature with no HAP or VOC emission reduction benefit and an increase in nitrogen oxide emissions.

We are requesting comment on the sufficiency of monitoring for the presence of the pilot flame by itself or with additional parameters. Industry has recommended automatic shutdown of the loading operations when the pilot flame is absent, coupled with daily monitoring of the assist blower operation, of the vapor line valve operation, and of the automatic shutdown system. We are requesting additional information on the specifics on how these additional items are monitored and why they or others are appropriate to ensure continuous compliance with the emission limit (80 mg/l). Further details on the industry recommendations are in the docket and we request comments, along with data that support the comments, on their recommendations. We are also attempting to collect additional information and data to support that these additional items are appropriate to monitor. We will evaluate the data presented to us during the public comment period to determine the final rule approach on continuous compliance monitoring.

Industry representatives are also working on and have recommended alternative parameters to monitor for continuous compliance of carbon adsorption systems. Industry is recommending daily monitoring of carbon adsorption system vacuum levels and other system parameters, and monthly measurements of outlet concentration, instead of continuous monitoring of outlet concentration as required in the Major Source NESHAP and this proposed rule. We are requesting additional information on the specifics on how these parameters are monitored and why they or others are appropriate to ensure continuous compliance with the emission limit (80 mg/l). Further details on the industry recommendations are in the docket and we request comments, along with data that support the comments, on their recommendations. We will evaluate the data presented to us during the public comment period and determine in the final rule whether this alternative approach ensure continuous compliance with the emission standards.

Various alternative testing and monitoring procedures are also included in the proposed rule. These alternatives were selected to allow facilities to utilize ongoing testing and monitoring programs, or to expand programs in use at other facilities, rather than having to implement new programs. Facilities that would be required to conduct performance testing of control devices may instead submit documentation that their control devices are in compliance with the testing and monitoring provisions of enforceable State or local standards that are equivalent in stringency to the proposed rule. Performance tests that have been approved by State or local permitting authorities may be submitted in lieu of a new performance test if they were conducted within the 3 years preceding the effective date of the proposed rule. Operating parameter monitoring programs approved by permitting authorities may also be used in lieu of the development of new monitoring programs for control devices. The periodic bubble leak test for vapor tightness testing of railcar cargo tanks (as allowed under the Major Source NESHAP) will also be allowed as an alternative to EPA Reference Method 27.

F. How did we select the proposed notification, recordkeeping, and reporting requirements?

The notification, recordkeeping, and reporting requirements of the proposed standards were generally based on requirements found in other Federal standards, including the General Provisions, as well as State rules. These requirements were selected because they meet the needs of EPA or the delegated permitting authority with respect to determining initial and ongoing compliance with the proposed standards. We have not made a general determination regarding how best to impose reporting requirements on area sources and seek comment on ways to balance the need for reporting with the burden imposed on sources. The proposed standards would require an owner or operator of a bulk terminal or a pipeline facility to submit the following four types of reports: (1) Initial Notification; (2) Notification of Compliance Status; (3) periodic reports (including excess emissions reports); and (4) other reports.

The purpose and contents of each of these reports are described in this section. The proposed rule requires all reports to be submitted to the “Administrator.” The term Administrator refers either to the Administrator of the Agency, an Agency regional office, a State agency, or other entity that has been delegated the authority to implement this rule. In most cases, reports will be sent to State agencies. Addresses are provided in the General Provisions of 40 CFR part 63, subpart A.

Records of reported information and other information necessary to document compliance with the regulations are generally required to be kept for 5 years. Records pertaining to the design and operation of the control and monitoring equipment must be kept for the life of the equipment.

Owners or operators of bulk gasoline plants and, under Regulatory Alternative 2, gasoline dispensing facilities, would be subject to reduced reporting requirements because their only requirement under the proposed rule is submerged fill of storage tanks and cargo tanks and equipment leak inspections at bulk plants. As discussed earlier, most States already require submerged filling at bulk plants and gasoline dispensing facilities, and as much as 99 percent of the gasoline is delivered using this technology. Additionally, confirming compliance with the submerged fill requirement is easily performed in the field. We estimate that approximately 260,000 gasoline dispensing facilities in Urban 1 and Urban 2 areas and 4,400 bulk plants in all counties nationwide currently utilize submerged filling of their storage tanks and cargo tanks due to State or local regulations. As a means of reducing the burden on these smaller facilities, we are proposing that bulk plants and gasoline dispensing facilities located in States that require submerged filling of storage tanks and cargo tanks not be required to submit an Initial Notification and a Notification of Compliance Status. We estimate that the burden of filing these notifications would be as much as $30 million for these facilities that are already complying with the requirements of this proposed rule. We are requesting comment on the elimination of the requirement to file the Initial Notification and Notification of Compliance Status in areas already required to install this equipment.

The Initial Notification and the Notification of Compliance Status would still be required, however, for bulk gasoline plants and, if we select Regulatory Alternative 2, gasoline dispensing facilities in other States (see listing in docket). We are nevertheless proposing to simplify these notifications by providing examples of forms that request only the minimum amount of information that would be necessary. In addition, if an affected bulk plant or gasoline dispensing facility is already in compliance with this proposed rule prior to the date that the Initial Notification is due, the two notifications could be combined. Bulk plant owners or operators would, however, be required to report, in a semiannual compliance report, a failure to repair an identified equipment leak within the specified number of days. There would, however, be no other requirements for routine semiannual compliance reporting for either bulk plants or gasoline dispensing facilities.

1. Initial Notification

The proposed standards would require owners or operators to submit an Initial Notification. This report notifies the Agency of applicability for existing facilities or of construction for new facilities as outlined in 40 CFR 63.5 (the General Provisions), whichever is applicable. A respondent must also report any facility reconstructions as defined in 40 CFR 63.5. This report will establish an early dialogue between the source and the regulatory agency, allowing both to plan for compliance activities. The notice is due within 120 days after the effective date of this proposed rule or within 120 days after the source becomes subject to the relevant standard.

The Initial Notification must include a statement as to whether the source can achieve compliance by the specified compliance date. If an existing source anticipates a delay that is beyond its control, it is important for the owner or operator to discuss the problem with the regulatory authority as early as possible. This report will also include a description of the parameter monitoring system intended to be used in conjunction with the vapor processing system. Pursuant to section 112(i)(3)(B) of the CAA, the proposed standards contain provisions for a 1-year compliance extension to be granted by the Administrator on a case-by-case basis.

2. Notification of Compliance Status

The Notification of Compliance Status would be submitted no later than 60 days after the facility's initial compliance demonstration. It contains the information necessary to demonstrate that compliance has been achieved, such as the results of the initial performance test on vapor processing systems. The submission of the performance test report will allow the regulatory authority to verify that the source has followed the correct sampling and analytical procedures, and has performed all calculations correctly. Included in the performance test report would be the calculation of the operating parameter value for the selected operating parameter to be monitored in the vapor processing system. The notification must include the data and rationale to support this parameter value as ensuring continuous compliance with the emission limit.

3. Periodic Reports

Periodic reports are required to ensure that the standards continue to be met and that all equipment is operated and maintained properly. Generally, periodic reports would be submitted semiannually. However, the Administrator may request that the owner or operator submit more frequent reports if more frequent reporting is necessary to accurately assess the compliance status of the source.

The semiannual compliance report would include a summary of the results of the continuous parameter monitoring, storage tank inspections, and equipment leak inspections. An excess emissions report would also be submitted along with the semiannual report, if applicable. Excess emissions events would include deviations from the established reference values used for continuous parameter monitoring. For loading racks, each loading of a gasoline cargo tank for which vapor tightness documentation had not been previously obtained by the facility would also be considered a reportable excess emissions event.

Owners and operators are also required to keep records of monthly equipment leak inspections, and to furnish reports on inspection results, as specified in 40 CFR 63.11095(a)(3). Facilities must also retain records and submit reports of annual inspections of storage vessels in accordance with 40 CFR 63.11095(a).

4. Other Reports

There are also a limited number of other, non-routine reports required under the General Provisions. For example, notification before a performance test or a storage vessel inspection is required to allow the regulatory authority the opportunity to have an observer present (as specified in the General Provisions). This type of reporting must be done separately from the periodic reports because some situations require a shorter term response from the reviewing authority.

Reports of start of construction, anticipated and actual startup dates, and modifications, as required under 40 CFR 63.5 and 63.9, are entered into the Agency's Aerometric Information Retrieval System (AIRS) and are used to determine whether emission limits are being met.

Records required under the proposed standards are generally required to be kept for 5 years. General recordkeeping requirements are contained in 40 CFR 63.10(b). These requirements include records of malfunctions and maintenance performed on the vapor processing system and the parameter monitoring system. At bulk gasoline terminals, vapor tightness (annual test) documentation for each gasoline cargo tank loading at the terminal is required. Continuous monitoring data from the parameter monitor on the vapor processor will provide a record of continuous compliance with the emission standard. Records of storage vessel inspections, operating plans, and other details of controlled storage vessels at terminals and pipeline stations are to be kept as specified under either 40 CFR 60.115b or 40 CFR 63.1065, depending on the compliance option chosen.

G. How did we decide to exempt gasoline distribution area sources from the CAA title V permit requirements?

Section 502(a) of the CAA provides that EPA may exempt one or more area sources from the requirements of title V if EPA finds that compliance with such requirements is “impracticable, infeasible, or unnecessarily burdensome” on such area sources. EPA must determine whether to exempt an area source from title V at the time we issue the relevant CAA section 112 standard (40 CFR 70.3(b)(2)). We are proposing in today's action to exempt gasoline distribution area sources from the requirements of title V. Gasoline distribution area sources would not be required to obtain title V permits solely as a function of being the subject of today's proposed NESHAP; however, if they were otherwise required to obtain title V permits, such requirement(s) would not be affected by today's proposed exemption.

Consistent with the statute, EPA has found that compliance with title V permitting is “unnecessarily burdensome” for gasoline distribution area sources. EPA's inquiry into whether this criterion was satisfied was based primarily upon consideration of the following four factors: (1) Whether title V would result in significant improvements to the compliance requirements that we are proposing for this area source category; (2) whether title V permitting would impose a significant burden on gasoline distribution area sources; (3) whether the costs of title V permitting for gasoline distribution area sources would be justified, taking into consideration any potential gains in compliance likely to occur for such sources; and (4) whether there are implementation and enforcement programs in place that are sufficient for assuring compliance with this NESHAP without relying on title V permits.

Additionally, EPA also considered whether exempting gasoline distribution area sources would adversely affect public health, welfare or the environment. We first determined the extent to which these factors were present for this area source category. We then determined whether those factors collectively demonstrated that compliance with title V requirements would be unnecessarily burdensome for gasoline distribution area sources.

In our consideration of these factors we believe the addition of title V permitting would not result in significant improvements to the compliance requirements that we are proposing for this area source category. We believe we are proposing proper levels of testing, monitoring, reporting, and recordkeeping, thus ensuring continuous compliance. As discussed earlier in this section, the proposed levels of testing and monitoring are based on the current levels of testing and monitoring required by many years of rule implementation under Federal, State, local, and tribal agencies for these emission sources. We are unaware of any additional compliance procedures, in or outside the title V program, which would improve the assurance of significantly more gains in compliance and emission reductions.

We also believe that title V permitting may impose a significant burden on facilities within this source category, some of which are small businesses. For many facilities, the cost of obtaining a title V permit may far exceed the cost of complying with this proposed rule without significant gains in compliance. In addition, because most of the facilities that are subject to this proposed rule are already subject to State or local rules with the same or similar control requirements, the implementation and enforcement programs in place are sufficient for assuring compliance with this NESHAP without relying on title V permits.

Based on the above analysis, we conclude that title V permitting would be “unnecessarily burdensome” for gasoline distribution area sources. We are therefore proposing that this area source category be exempt from title V permitting requirements.

H. How did we determine the compliance date for existing facilities?

Section 112(i)(3)(A) of the CAA directs EPA to establish compliance dates for existing sources that provide for compliance as expeditiously as practicable, but in no event later than 3 years after the effective date of a standard. We are proposing in today's action a compliance date for existing facilities of 3 years after promulgation of the final rule. See 40 CFR 63.11083.

Our selection of a 3-year compliance period was based on several factors. First, for storage tanks and loading racks at bulk terminals and for storage tanks at pipeline breakout stations, the 3-year period is consistent with the requirements found in the Major Source NESHAP. Because today's proposed rule would control the same types of emission sources as the Major Source NESHAP, we concluded that it was reasonable to allow the same compliance period. Some facilities affected by today's proposed rule will be required to install control equipment to comply with the rule. The amount of time necessary to plan, purchase, and install storage tank rim seals or loading rack vapor collection and control devices is expected to be significant. Also, because the area source facilities covered by today's proposed rule are smaller than the facilities covered by the Major Source NESHAP, requiring a shorter compliance period did not appear reasonable.

We are also proposing a 3-year compliance period for the submerged fill requirements at bulk plants and at gasoline dispensing facilities in urban areas. These are typically small facilities and many of them meet the definition of a small business entity. These smaller facilities do not typically have environmental or legal expertise on staff and would, therefore, often need additional time to develop an understanding of the requirements of the proposed rule and to develop and implement a plan of action to comply. Although the estimated costs for these facilities to comply with the requirements is considered reasonable, it may take longer for them to plan for or arrange the funding for purchasing and installing control equipment. For these reasons, we concluded that a 3-year compliance period was reasonable for these smaller facilities. We request comment on the appropriateness of extending the proposed timeframe to the full 3-year period for an existing source to comply with this area source rule.

V. Summary of Environmental, Energy, Cost, and Economic Impacts

As discussed earlier, gasoline distribution activities are carried out at several different types of facilities. These include bulk terminals, pipeline breakout stations, pipeline pumping stations, bulk plants, and gasoline dispensing facilities. Our analysis of the gasoline distribution industry led us to estimate that there were approximately the following numbers of potentially affected area sources within each type of facility: 980 bulk terminals, 400 pipeline breakout stations, 1,800 pipeline pumping stations, 390 bulk plants, and 1,900 gasoline dispensing facilities. The following paragraphs present our estimates of the impacts that this proposed rule would have on these facilities.

A. What are the air impacts?

Nationwide, gasoline distribution facilities emit annually an estimated 475,000 tons of VOC and 35,500 tons of HAP (including 1,300 tons of benzene). As discussed earlier, emissions of EDC have already been eliminated from this source category. If we select Regulatory Alternative 1 as the final standard, we estimate that, after the alternative is implemented, annual HAP emissions will be reduced by 3,300 tons, which includes 120 tons of benzene, from 3,300 facilities. The alternative will also reduce VOC emissions by 45,000 tons per year. This represents about a 9 percent reduction in emissions of these pollutants, compared to the baseline. If we select Regulatory Alternative 2 as the final standard, we estimate that, after the alternative is implemented, annual HAP emissions will be reduced by 3,400 tons, which includes 125 tons of benzene, from 5,200 facilities. The alternative will also reduce VOC emissions by 46,200 tons per year, which represents about a 10 percent reduction in emissions of these pollutants, compared to the baseline.

On March 29, 2006, EPA proposed (71 FR 15804) additional controls on gasoline, passenger vehicles, and portable gasoline containers under the Mobile Source Air Toxics (MSAT) Program. The proposed MSAT rule would require that the benzene content of gasoline be reduced by about 37 percent overall by January 1, 2011. Taking into account the lower benzene content of gasoline that is estimated to result from the implementation of the MSAT rule (if the rule is finalized as proposed), baseline emissions of HAP and benzene from this source category in 2011 would be about 35,145 tons and 820 tons, respectively. Regulatory Alternative 1 is estimated to achieve a HAP reduction of 3,260 tons per year (rather than the 3,300 presented earlier) and a benzene reduction of 77 tons per year (rather than 120 tons) if the MSAT rule is finalized as proposed. Regulatory Alternative 2 is estimated to achieve a HAP reduction of 3,360 tons per year (rather than the 3,400 presented earlier) and a benzene reduction of 80 tons per year (rather than 125 tons) if the MSAT rule is finalized as proposed.

We project that any adverse air impacts associated with this proposed rule will be insignificant. The only control technology utilized to meet the requirements in the proposed rule that would lead to adverse air impacts is the use of thermal oxidizers to control gasoline vapors. These devices typically use natural gas as a supplemental fuel to achieve the required minimum temperatures in the combustion chamber. Emissions from these devices include the products of combustion created by the combustion of natural gas and gasoline vapors. There are, however, alternative control technologies, such as carbon adsorbers, that do not rely on combustion for control of the gasoline vapors. Carbon adsorption devices recover gasoline vapors and provide a cost benefit from the recovered product.

The alternatives being proposed today would reduce benzene emissions in this source category by 120 and 125 tons annually (about a 9 and 10 percent reduction from current total emissions), respectively, from Regulatory Alternatives 1 and 2. Using national data from all stationary benzene emission sources in the 1999 National Air Toxic Assessment (NATA) and ratioing them to the national benzene emissions from this source category, we approximate that this proposal will reduce incidences of cancer from benzene exposure by 0.037 and 0.039 cases per year, respectively, from Regulatory Alternatives 1 and 2. Regulatory Alternative 3 reduces about 20 percent of current benzene emissions from these sources, resulting in a reduction of incidences of cancer from benzene exposure by 0.08 cases per year. These approximations are considered a very rough estimate because no exposure analysis was performed for this source category and the 1999 NATA data should be used cautiously, as the overall quality and uncertainties of the NATA results will vary from location to location as well as from pollutant to pollutant. In addition, EPA's Scientific Advisory Board has cautioned the Agency against using the results of the NATA assessment for regulatory purposes. Further information on the limitations of NATA is discussed at the following Web site: http://www.epa.gov/ttn/atw/nata1999/index.html.

B. What are the cost impacts?

The cost of implementing the proposed standards for gasoline distribution area source facilities would include the capital and annualized costs to control storage tanks, loading racks, and equipment leaks, as well as the costs of complying with the testing, monitoring, reporting, and recordkeeping requirements. The proposed standards are estimated to result in capital expenditures of approximately $60 million for Regulatory Alternative 1 and $65 million for Regulatory Alternative 2.

The annualized cost ³ of the capital expenditures is estimated to be about $7.1 million for Regulatory Alternative 1 and $7.6 million for Regulatory Alternative 2. Annual operating and maintenance costs are estimated at about $3.6 million, for each of the alternatives. We have estimated the annual costs of testing, monitoring, reporting, and recordkeeping to be about $23 million for Regulatory Alternative 1 and $24 million for Regulatory Alternative 2. Because of the value ⁴ of the product that is either recovered or prevented from evaporating, however, we estimate that the annualized cost of the proposed standards is a credit of about $6 million for both alternatives ($47,000 incremental annualized cost between Regulatory Alternatives 1 and 2).

³ Capital is annualized over 10 years for loading rack equipment, 15 years for submerged fill equipment, and 20 years for storage tank equipment. We used a discount rate of 10 percent for this analysis, and when evaluating public comments we will update the final analysis by using the current economic practice discount rate of 7 percent.

⁴ The recovered product value we used in this analysis is $1.70 per gallon for wholesale gasoline.

C. What are the economic impacts?

This proposal affects area sources from pipeline transportation, bulk stations and terminals, local and long-haul trucking, and gasoline stations which make up the gasoline distribution industry. We performed an economic impact analysis with methodology based on a single-market partial-equilibrium analysis of the national gasoline market. The analysis estimates changes in gas prices and outputs for affected sources under the three regulatory alternatives discussed above.

The results of our analysis are as follows. The compliance cost results in an insignificant increase in gasoline prices for each alternative: 0.01 percent increase in price for Regulatory Alternatives 1 and 2, 0.02 percent increase in price for Regulatory Alternative 3. Given the small increase in prices, the corresponding reductions in gasoline output are minor for each alternative: -0.002 percent for Regulatory Alternatives 1 and 2, -0.003 percent for Regulatory Alternative 3. The overall total annual social costs/gains, which reflect changes in consumer and producer behavior in response to the compliance costs, are $6 million in gains for Regulatory Alternatives 1 and 2, and a $32 million cost for Regulatory Alternative 3. The net gains for Regulatory Alternatives 1 and 2 are the result of surplus increases from fuel savings valued at $40 to $41 million.

For more information, please refer to the Economic Impact Analysis report that is in the public docket for this rule.

D. What are the non-air environmental and energy impacts?

Water quality would not be affected by implementation of this proposed rule. This proposed rule does not contain any requirements related to water discharges, wastewater collection, or spill containment, and no additional gasoline is expected to enter these areas as a result of this proposed rule.

We also project that there will be no significant solid waste impact. Neither thermal oxidizers nor condensers generate any solid waste as a by-product of their operation. When carbon adsorption systems are used, the spent activated carbon that cannot be further regenerated may be disposed of in a landfill, which would contribute a small amount of solid waste.

The control devices used to control emissions from loading racks and some storage tanks use electric motor-driven blowers, dampers, or pumps, depending on the type of system, in addition to electronic control and monitoring systems. The installation of these devices would have a small negative energy impact. We believe, however, that there will be very few, if any, new installations of these control devices as a result of this proposed rule. Also, because the liquid being controlled by these systems is gasoline, and some of the applied control measures would keep this fuel in the distribution system, they would have a positive impact on this form of energy. We estimate that this proposed rule would prevent a total of approximately 14.3, 14.7, and 30 million gallons of gasoline from being lost to evaporation annually for Regulatory Alternatives 1, 2, and 3, respectively.

VI. Statutory and Executive Order Reviews

A. Executive Order 12866: Regulatory Planning and Review

Under Executive Order 12866 (58 FR 51735, October 4, 1993), this action is a “significant regulatory action.” The Executive Order defines “significant regulatory action” as one that is likely to result in a rule that may “raise novel legal or policy issues arising out of legal mandates, the President's priorities, or the principles set forth in the Executive Order.” Accordingly, EPA submitted this action to OMB for review under Executive Order 12866 and any changes made in response to OMB recommendations have been documented in the docket for this action.

B. Paperwork Reduction Act

The information collection requirements in this proposed rule have been submitted for approval to OMB under the Paperwork Reduction Act, 44 U.S.C. 3501, et seq. An Information Collection Request (ICR) document has been prepared by EPA has been assigned EPA ICR number 2237.01. A copy may be obtained from Susan Auby, Collection Strategies Division (2822T), EPA, 1200 Pennsylvania Avenue, NW., Washington, DC 20460, or by calling (202) 566-1672. A copy may also be downloaded from the public docket for this action (Docket ID number EPA-HQ-OAR-2006-0406), which can be found in http://www.regulations.gov.

The information to be collected for the area source rule proposed today are based on notification, recordkeeping, and reporting requirements in the NESHAP General Provisions in 40 CFR part 63, subpart A, which are mandatory for all operators subject to national emission standards. These recordkeeping and reporting requirements are specifically authorized by section 114 of the CAA (42 U.S.C. 7414). All information submitted to the EPA pursuant to the recordkeeping and reporting requirements for which a claim of confidentiality is made is safeguarded according to EPA policies set forth in 40 CFR part 2, subpart B.

The proposed rule would require performance testing of control devices used to control emissions from loading racks at bulk terminals and from some storage tanks at bulk terminals and pipeline breakout stations; annual inspections of storage tanks at bulk terminals and pipeline breakout stations; collection of cargo tank vapor tightness documentation by bulk terminals; and monthly equipment leak inspections at bulk terminals, pipeline breakout stations, pipeline pumping stations, and bulk plants. The proposed rule would not require any notifications or reports beyond those required by the General Provisions. The recordkeeping requirements require only the specific information needed to determine compliance. We have taken steps, as described in section IV.F of this preamble, to minimize the reporting and recordkeeping requirements for the smaller facilities (bulk plants and gasoline dispensing facilities) that are affected by the proposed rule.

The annual monitoring, reporting, and recordkeeping burden to affected sources for this collection (averaged over the first 3 years after the effective date of the promulgated rule) is estimated to be about 204,100 labor hours per year, with a total annual cost of $13.4 million per year. Most of this burden will be spread over approximately 11,160 facilities that will be required to keep records and file reports. Of this total burden, however, about 84,240 labor hours (and $5.7 million) will be incurred by 1,560 of the larger facilities (bulk terminals and pipeline breakout stations). Depending on the facility type, these estimates include two one-time notifications, a one-time performance test and report for control devices, periodic equipment inspections, and semiannual compliance reporting.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An agency may not conduct or sponsor, and a person is not required to respond to a collection of information, unless it displays a currently valid OMB control number. The OMB control numbers for EPA's regulations in 40 CFR are listed in 40 CFR part 9 and 48 CFR chapter 15.

To comment on the Agency's need for this information, the accuracy of the provided burden estimates, and any suggested methods for minimizing respondent burden, including through the use of automated collection techniques, EPA has established a public docket for this proposed rule, which includes this ICR, under Docket ID number EPA-HQ-OAR-2006-0406, which can be found in www.regulations.gov. Submit any comments related to the ICR for this proposed rule to EPA and OMB. See ADDRESSES section at the beginning of this notice for where to submit comments to EPA. Send comments to OMB at the Office of Information and Regulatory Affairs, Office of Management and Budget, 725 17th St., NW., Washington, DC 20503, Attention: Desk Office for EPA. Since OMB is required to make a decision concerning the ICR between 30 and 60 days after November 9, 2006, a comment to OMB is best assured of having its full effect if OMB receives it by December 11, 2006. The final rule will respond to any OMB or public comments on the information collection requirements contained in this proposal.

C. Regulatory Flexibility Act

The Regulatory Flexibility Act (RFA) generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For the purposes of assessing the impacts of this proposed rule on small entities, small entity is defined as: (1) A small business whose parent company has less than $25 million in revenue (NAICS 447110, Gasoline Stations with Convenience Stores), less than $23.5 million in revenue (NAICS 484220 and 484230, Hazardous Materials Trucking [except waste], local and long-distance), and less than $8.0 million in revenue (NAICS 447190, Other Gasoline Stations), and fewer than 100 employees (NAICS 424710, Petroleum Bulk Stations and Terminals), and 1,500 employees (NAICS 486910, Pipeline Transportation of Refined Petroleum Products) based on the Small Business Administration size standards; (2) a small governmental jurisdiction that is a government of a city, county, town, school district or special district with a population of less than 50,000; and (3) a small organization that is any not-for-profit enterprise which is independently owned and operated and is not dominant in its field. Under these definitions, approximately 60,000 gasoline distribution firms are considered small entities. For more information, refer to http://www.sba.gov/size/sizetable2002.html. The economic impacts of the regulatory alternatives are analyzed based on the consumption of gasoline. However, for the small business impact analysis, these impacts are described in terms of comparing the compliance costs to sales revenues for representative entities. For more detail, see the current Economic Impact Analysis in the public docket.

After considering the economic impacts of this proposed rule on small entities, I certify that the proposed rule will not have a significant economic impact on a substantial number of small entities. This certification is based on the economic impact of the proposed rule to affected small entities in the entire gasoline distribution industry. The small entities directly regulated by the proposed rule are industries within the NAICS codes 424710, 447110, 447190, 484220, and 484230. We have determined that Pipeline Transportation of Refined Petroleum Products (NAICS 486910) does not contain any small business entities and, therefore, is not included in the small business impact analysis. For the regulatory alternatives analyzed, all gasoline distribution industry categories that contain small business entities are expected to have an average annual cost to sales ratio of less than 1 percent with cost impacts for all regulated small entities ranging from a cost savings to less than 0.12 percent of sales. In addition, no other adverse impacts are expected to occur to these affected small businesses.

Cost impacts associated with these proposed standards for area sources are presented in Section V.B of this preamble. For more information on the small entity economic impacts associated with the proposed decisions for gasoline distribution industries affected by today's action, please refer to the Economic Impact and Small Business Analyses in the public docket.

Although the proposed rule would not have a significant economic impact on a substantial number of small entities, we nonetheless tried to reduce the impact of the proposed rule on small entities. When developing the regulatory alternatives, we took special steps to ensure that the burdens imposed on small entities were minimal. We conducted meetings with industry officials to discuss regulatory options and the corresponding burden on industry, such as recordkeeping and reporting.

Following publication of the proposed rule, copies of the Federal Register notice and, in some cases, background documents, will be publicly available (see Docket in the ADDRESSES section of this preamble) to all industries, organizations, and trade associations that have had input during the regulation development, as well as State and local agencies. We continue to be interested in the potential impacts of the proposed rule on small entities and welcome comments on issues related to such impacts.

D. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or by the private sector, of $100 million or more in any 1 year. Before promulgating an EPA rule for which a written statement is needed, section 205 of the UMRA generally requires us to identify and consider a reasonable number of regulatory alternatives and adopt the least costly, most cost-effective, or least burdensome alternative that achieves the objectives of the rule. The provisions of section 205 do not apply when they are inconsistent with applicable law. Moreover, section 205 allows us to adopt an alternative other than the least costly, most cost-effective, or least burdensome alternative if the Administrator publishes with the final rule an explanation why that alternative was not adopted. Before we established any regulatory requirements that may significantly or uniquely affect small governments, including tribal governments, we must have developed under section 203 of the UMRA a small government agency plan. The plan must provide for notifying potentially affected small governments, enabling officials of affected small governments to have meaningful and timely input in the development of regulatory proposals with significant Federal intergovernmental mandates, and informing, educating, and advising small governments on compliance with the regulatory requirements.

We have determined that the options considered in this proposed rule do not contain a Federal mandate that may result in expenditures of $100 million or more to State, local, and tribal governments in the aggregate, or to the private sector in any 1 year. Thus, this proposed rule is not subject to the requirements of sections 202 and 205 of the UMRA. Additionally, for the same reason as above for all governments, we believe the options considered in this proposed rule do not contain requirements that might significantly or uniquely affect small governments.

E. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This proposed rule does not have federalism implications. It will not have substantial direct effects on the States, on the relationship between the national government and the States, or on the distribution of power and responsibilities among the various levels of government, as specified in Executive Order 13132. Thus, the requirements of the Executive Order do not apply to this proposed rule.

In the spirit of Executive Order 13132 and consistent with EPA policy to promote communications between EPA and State and local governments, EPA specifically solicits comment on this proposed rule from State and local officials.

F. Executive Order 13175: Consultation and Coordination With Indian Tribal Governments

Executive Order 13175, entitled “Consultation and Coordination with Indian Tribal Governments” (65 FR 67249, November 9, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This proposed rule does not have tribal implications, as specified in Executive Order 13175. It will not have substantial direct effects on tribal governments, on the relationship between the Federal Government and Indian tribes, or on the distribution of power and responsibilities between the Federal Government and Indian tribes. Thus, Executive Order 13175 does not apply to this proposed rule.

EPA specifically solicits additional comment on this proposed rule from tribal officials.

G. Executive Order 13045: Protection of Children From Environmental Health and Safety Risks

Executive Order 13045 (62 FR 19885, April 23, 1997) applies to any rule that: (1) Is determined to be “economically significant” as defined under Executive Order 12866, and (2) concerns an environmental health or safety risk that EPA has reason to believe may have a disproportionate effect on children. If the regulatory action meets both criteria, we must evaluate the environmental health or safety effects of the planned rule on children and explain why the planned regulation is preferable to other potentially effective and reasonably feasible alternatives considered by the Agency.

We interpret Executive Order 13045 as applying only to those regulatory actions that are based on health or safety risks, such that the analysis required under section 5-501 of the Executive Order has the potential to influence the regulation. This proposed rule is not subject to Executive Order 13045 because it is based on technology performance and not on health or safety risks. No children's risk analysis was performed because no alternative technologies exist that would provide greater stringency at a reasonable cost. Furthermore, this proposed rule has been determined not to be “economically significant” as defined under Executive Order 12866.

H. Executive Order 13211: Actions That Significantly Affect Energy Supply, Distribution, or Use

This proposed rule is not an economically significant energy action as defined in Executive Order 13211 (66 FR 28355, May 22, 2001) because it is not likely to have a significant adverse effect on the supply, distribution, or use of energy. Further, we have concluded that this proposed rule is not likely to have any adverse energy impacts.

I. National Technology Transfer Advancement Act

Section 12(d) of the National Technology Transfer and Advancement Act of 1995 (NTTAA), Public Law No. 104-113, 12(d) (15 U.S.C. 272 note) directs EPA to use voluntary consensus standards (VCS) in its regulatory activities unless to do so would be inconsistent with applicable law or otherwise impractical. VCS are technical standards (e.g., materials specifications, test methods, sampling procedures, and business practices) that are developed or adopted by VCS bodies. The NTTAA directs EPA to provide Congress, through OMB, explanations when the Agency decides not to use available and applicable VCS.

This proposed rule does not include any test methods that have not undergone the NTTAA review during the development of the NESHAP for gasoline distribution (Stage I). During the development of amendments to the NESHAP in 2005 we incorporated by reference an industry standard test method for detecting vapor leaks in railcar cargo tanks. This method was found to be an acceptable alternative to EPA Reference Method 27. No other VCS have been identified that are applicable to this proposed rule.

List of Subjects for 40 CFR Part 63

Environmental protection, Administrative practice and procedures, Air pollution control, Intergovernmental relations, Reporting and recordkeeping requirements.

Dated: October 31, 2006.
Stephen L. Johnson,
Administrator.

For the reasons set out in the preamble, title 40, chapter I, part 63 of the Code of Federal Regulations is proposed to be amended as follows:

PART 63—[AMENDED]

1. The authority citation for part 63 continues to read as follows:

Authority: 42 U.S.C. 7401, et seq.

2. Part 63 is amended by adding a new subpart BBBBBB to read as follows:

Subpart BBBBBB—National Emission Standards for Hazardous Air Pollutants for Source Category: Gasoline Distribution Bulk Terminals, Bulk Plants, Pipeline Facilities, and Gasoline Dispensing Facilities
What This Subpart Covers
Sec.
63.11080 What is the purpose of this subpart?
63.11081 Am I subject to the requirements in this subpart?
63.11082 What parts of my affected source does this subpart cover?
63.11083 When do I have to comply with this subpart?
Emission Limitations, Operating Limits, and Work Practice Standards
63.11085 What requirements must I meet if my facility is a gasoline dispensing facility?
63.11086 What requirements must I meet if my facility is a bulk gasoline plant?
63.11087 What requirements must I meet for gasoline storage tanks if my facility is a bulk gasoline terminal, pipeline breakout station, or pipeline pumping station?
63.11088 What requirements must I meet for gasoline loading racks if my facility is a bulk gasoline terminal, pipeline breakout station, or pipeline pumping station?
63.11089 What requirements must I meet for equipment leak inspections if my facility is a bulk gasoline terminal, pipeline breakout station, or pipeline pumping station?
Testing and Monitoring Requirements
63.11092 What testing requirements must I meet?
Notification, Reports, and Records
63.11093 What notifications must I submit and when?
63.11094 What are my recordkeeping requirements?
63.11095 What are my reporting requirements?
Other Requirements and Information
63.11098 What parts of the General Provisions apply to me?
63.11099 Who implements and enforces this subpart?
63.11100 What definitions apply to this subpart?
Tables to Subpart BBBBBB of Part 63
Table 1 to Subpart BBBBBB of Part 63—Applicability Criteria, Emission Limits, and Work Practice Standards for Storage Tanks
Table 2 to Subpart BBBBBB of Part 63—Applicability Criteria, Emission Limits, and Work Practice Standards for Loading Racks
Table 3 to Subpart BBBBBB of Part 63—Applicability of General Provisions

Subpart BBBBBB—National Emission Standards for Hazardous Air Pollutants for Source Category: Gasoline Distribution Bulk Terminals, Bulk Plants, Pipeline Facilities, and Gasoline Dispensing Facilities

What This Subpart Covers

§ 63.11080 What is the purpose of this subpart?

This subpart establishes national emission limitations, work practice standards, and equipment inspection requirements for organic hazardous air pollutants (HAP) emitted from area source gasoline distribution facilities. This subpart also establishes requirements to demonstrate compliance with the emission limitations, work practice standards, and equipment inspection requirements.

§ 63.11081 Am I subject to the requirements in this subpart?

(a) The affected source to which this subpart applies is each bulk gasoline terminal, pipeline breakout station, pipeline pumping station, bulk gasoline plant, and gasoline dispensing facility identified in paragraphs (a)(1) through (5) of this section. You are subject to the requirements in this subpart if you own or operate one or more of the affected area sources identified in paragraphs (a)(1) through (5) of this section.

(1) A bulk gasoline terminal that is not subject to the control requirements of 40 CFR part 63, subpart R (§§ 63.422, 63.423, and 63.424) or 40 CFR part 63, subpart CC (§§ 63.646, 63.648, 63.649, and 63.650).

(2) A pipeline breakout station that is not subject to the control requirements of 40 CFR part 63, subpart R (§§ 63.423 and 63.424) of this part.

(3) A pipeline pumping station.

(4) A bulk gasoline plant.

(5) A gasoline dispensing facility located in an Urban 1 or Urban 2 area.

(b) If you are an owner or operator of affected sources in (a)(1) through (5) of this section, you are not required to meet the obligation to obtain a permit under 40 CFR part 70 or 40 CFR part 71, provided you are not otherwise required to obtain a permit under 40 CFR 70.3(a) or 40 CFR part 71.3(a).

§ 63.11082 What parts of my affected source does this subpart cover?

The emission sources to which this subpart applies are gasoline storage tanks, gasoline loading racks, vapor collection-equipped gasoline cargo tanks, and equipment components in vapor or liquid gasoline service that meet the criteria specified in Tables 1 through 3 to this subpart.

§ 63.11083 When do I have to comply with this subpart?

(a) If you have a new or reconstructed affected source, you must comply with this subpart according to paragraphs (a)(1) and (2) of this section.

(1) If you startup your affected source before [DATE OF PUBLICATION OF THE FINAL RULE IN THE Federal Register], you must comply with the standards in this subpart no later than [DATE OF PUBLICATION OF THE FINAL RULE IN THE Federal Register].

(2) If you start up your affected source after [DATE OF PUBLICATION OF THE FINAL RULE IN THE Federal Register], you must comply with the standards in this subpart upon startup of your affected source.

(b) If you have an existing affected source, you must comply with the standards in this subpart no later than [DATE 3 YEARS AFTER DATE OF PUBLICATION OF THE FINAL RULE IN THE Federal Register].

(c) If a county where your gasoline dispensing facility resides is reclassified from rural to urban, you must comply with the standards in this subpart as specified in paragraphs (c)(1) through (3) of this section.

(1) If your facility is an existing facility as of the date your county is reclassified, you must comply with the standards in this subpart no later than 3 years after the date of reclassification.

(2) If you commence construction or reconstruction of your gasoline dispensing facility on or after the date of reclassification, and you start up your gasoline dispensing facility before the reclassification, you must comply with the standards in this subpart no later than the date of publication of reclassification.

(3) If you commence construction or reconstruction of your gasoline dispensing facility on or after the date of reclassification, and you start up your gasoline dispensing facility after the date of reclassification, you must comply with the standards in this subpart upon startup of your gasoline dispensing facility.

Emission Limitations, Operating Limits, and Work Practice Standards

§ 63.11085 What requirements must I meet if my facility is a gasoline dispensing facility?

Each owner or operator of an affected gasoline dispensing facility, as defined in § 63.11100, must comply with the requirements of paragraphs (a) through (g) of this section, but is not required to comply with § 63.11086, § 63.11087, § 63.11088, or § 63.11089.

(a) You must utilize submerged filling, as defined in § 63.11100, for the loading of gasoline into storage tanks at your facility.

(b) The emission sources listed in paragraphs (b)(1) and (2) of this section are not required to comply with the control requirements in this subpart.

(1) Gasoline storage tanks with a capacity of less than 250 gallons.

(2) Gasoline storage tanks with a capacity of less than 550 gallons that are used exclusively for fueling implements of husbandry.

(c) You must not allow gasoline to be handled in a manner that would result in vapor releases to the atmosphere for extended periods of time. Measures to be taken include, but are not limited to, the following:

(1) Minimize gasoline spills;

(2) Clean up spills as expeditiously as practicable;

(3) Cover all open gasoline containers with a gasketed seal when not in use;

(4) Minimize gasoline sent to open waste collection systems that collect and transport gasoline to reclamation and recycling devices, such as oil/water separators.

(d) You must submit an initial notification that you are subject to this subpart by [DATE 120 DAYS AFTER DATE OF PUBLICATION OF THE FINAL RULE IN THE Federal Register] unless you meet the requirements in paragraph (f) of this section. The initial notification must contain the information specified in paragraphs (d)(1) through (3) of this section. The notification must be submitted to the applicable EPA Regional Office, as listed in § 63.13, or the delegated State authority.

(1) The name and address of the owner and the operator.

(2) The address (i.e., physical location) of the gasoline dispensing facility.

(3) A statement that the notification is being submitted in response to 40 CFR part 63, subpart BBBBBB and identifying whether or not the requirements in paragraphs (a), (b), and (c) of this section apply to you.

(e) You must submit a notification of compliance status to the applicable EPA Regional Office or the delegated State authority by the compliance date specified in § 63.11083. The notification of compliance status must be signed by a responsible official who must certify its accuracy and must indicate whether the source has complied with the requirements of this subpart. If your facility is in compliance with the requirements of this subpart at the time the initial notification required under paragraph (d) of this section is due, the notification of compliance status may be submitted in lieu of the initial notification provided it contains the information required under paragraph (d) of this section.

(f) You are not required to submit an initial notification or a notification of compliance status under paragraph (d) or paragraph (e) of this section if, prior to [DATE OF PUBLICATION OF THE FINAL RULE IN THE Federal Register], you are meeting a submerged fill (as defined in § 63.11100) requirement under an enforceable State, local, or tribal rule or permit.

(g) You must comply with the requirements of this subpart by the applicable dates specified in § 63.11083.

§ 63.11086 What requirements must I meet if my facility is a bulk gasoline plant?

Each owner or operator of an affected bulk gasoline plant, as defined in § 63.11100, must comply with the requirements of paragraphs (a) through (i) of this section, but is not required to comply with § 63.11085, § 63.11087, or § 63.11088.

(a) Except as specified in paragraph (b) of this section, you must utilize submerged filling, as defined in § 63.11100, for the loading of gasoline into storage tanks at your facility.

(b) The emission sources listed in paragraphs (b)(1) and (2) of this section are not required to comply with the control requirements in this subpart.

(1) Gasoline storage tanks with a capacity of less than 250 gallons.

(2) Gasoline storage tanks with a capacity of less than 550 gallons that are used exclusively for fueling implements of husbandry.

(c) You must utilize submerged filling, as defined in § 63.11100, for the loading of gasoline into gasoline cargo tanks at your facility.

(d) You must perform a monthly leak inspection of all equipment in gasoline service according to the requirements specified in § 63.11089(a) through (f).

(e) You must not allow gasoline to be handled in a manner that would result in vapor releases to the atmosphere for extended periods of time. Measures to be taken include, but are not limited to, the following:

(1) Minimize gasoline spills;

(2) Clean up spills as expeditiously as practicable;

(3) Cover all open gasoline containers with a gasketed seal when not in use;

(4) Minimize gasoline sent to open waste collection systems that collect and transport gasoline to reclamation and recycling devices, such as oil/water separators.

(f) You must submit an initial notification that you are subject to this subpart by [DATE 120 DAYS AFTER DATE OF PUBLICATION OF THE FINAL RULE IN THE Federal Register] unless you meet the requirements in paragraph (h) of this section. The initial notification must contain the information specified in paragraphs (f)(1) through (4) of this section. The notification must be submitted to the applicable EPA Regional Office, as listed in § 63.13, or the delegated State authority.

(1) The name and address of the owner and the operator.

(2) The address (i.e., physical location) of the bulk plant.

(3) A statement that the notification is being submitted in response to subpart BBBBBB and identifying the requirements in paragraphs (a), (b), (c), (d), and (e) of this section that apply to you.

(4) A brief description of the bulk plant, including the number of storage tanks in gasoline service, the capacity of each storage tank in gasoline service, and the average monthly gasoline throughput at the affected source.

(g) You must submit a notification of compliance status to the applicable EPA Regional Office or the delegated State authority by the compliance date specified in § 63.11083. The notification of compliance status must be signed by a responsible official who must certify its accuracy and must indicate whether the source has complied with the requirements of this subpart. If your facility is in compliance with the requirements of this subpart at the time the initial notification required under paragraph (f) of this section is due, the notification of compliance status may be submitted in lieu of the initial notification provided it contains the information required under paragraph (f) of this section.

(h) You are not required to submit an initial notification or a notification of compliance status under paragraph (f) or (g) of this section if, prior to [DATE OF PUBLICATION OF THE FINAL RULE IN THE Federal Register], you are meeting a submerged fill (as defined in § 63.11100) requirement under an enforceable State, local, or tribal rule or permit.

(i) You must comply with the requirements of this subpart by the applicable dates specified in § 63.11083.

(j) You must keep applicable records and submit reports as specified in § 63.11094(d) and (e) and § 63.11095(b)(4).

§ 63.11087 What requirements must I meet for gasoline storage tanks if my facility is a bulk gasoline terminal, pipeline breakout station, or pipeline pumping station?

(a) You must meet each emission limit and work practice standard in Table 1 to this subpart that applies to your gasoline storage tank.

(b) You must comply with the requirements of this subpart by the applicable dates specified in § 63.11083, except that storage vessels for which construction, reconstruction, or modification commenced before July 23, 1984, and storage vessels equipped with floating roofs, must be in compliance at the first degassing and cleaning activity after [DATE 3 YEARS AFTER DATE OF PUBLICATION OF THE FINAL RULE IN THE Federal Register], or by [DATE 10 YEARS AFTER DATE OF PUBLICATION OF THE FINAL RULE IN THE Federal Register], whichever is first.

(c) You must comply with the applicable testing and monitoring requirements specified in § 63.11092(e).

(d) You must submit the applicable notifications as required under § 63.11093.

(e) You must keep records and submit reports as specified in §§ 63.11094 and 63.11095.

(f) If your gasoline storage tank is also subject to the control requirements of 40 CFR part 60, subpart Kb (§§ 60.110b through 60.117b) of this chapter, you must comply only with the provisions of subpart Kb.

§ 63.11088 What requirements must I meet for gasoline loading racks if my facility is a bulk gasoline terminal, pipeline breakout station, or pipeline pumping station?

(a) You must meet the emission limit and work practice standard in Table 2 to this subpart.

(b) Except as provided in paragraph (c) of this section, you must limit the loadings of gasoline into gasoline cargo tanks that are vapor-tight using the procedures specified in § 60.502(e) through (j). For the purposes of this section, the term “tank truck” as used in § 60.502(e) through (j) means “cargo tank” as defined in § 63.11100.

(c) As an alternative to the requirements of paragraph (b) of this section, if your gasoline loading rack is required under a regulation or an operating permit issued by a State, local, or tribal agency to limit the loadings of gasoline into cargo tanks that are vapor tight, and you are in compliance with all applicable provisions of the regulation or your operating permit, you will be considered to be in compliance with paragraph (b) of this section, provided that you verify the appropriate documentation of vapor tightness testing prior to the loading of the cargo tank. The appropriate documentation may be in the form of a sticker placed on the cargo tank, a copy of the vapor tightness testing results carried on board the cargo tank, or other procedures approved by the State, local, or tribal agency.

(d) As an alternative for railcar cargo tanks to the requirements specified in § 60.502(h) and (i), you may comply with the requirements specified in § 63.422(e).

(e) You must comply with the requirements of this subpart by the applicable dates specified in § 63.11083.

(f) You must comply with the applicable testing and monitoring requirements specified in § 63.11092.

(g) You must submit the applicable notifications as required under § 63.11093.

(h) You must keep records and submit reports as specified in §§ 63.11094 and 63.11095.

§ 63.11089 What requirements must I meet for equipment leak inspections if my facility is a bulk gasoline terminal, pipeline breakout station, or pipeline pumping station?

(a) Each owner or operator of a bulk gasoline terminal, bulk plant, pipeline breakout station, or pipeline pumping station subject to the provisions of this subpart shall perform a monthly leak inspection of all equipment in gasoline service, as defined in § 63.11100. For this inspection, detection methods incorporating sight, sound, and smell are acceptable.

(b) A log book shall be used and shall be signed by the owner or operator at the completion of each inspection. A section of the log book shall contain a list, summary description, or diagram(s) showing the location of all equipment in gasoline service at the facility.

(c) Each detection of a liquid or vapor leak shall be recorded in the log book. When a leak is detected, an initial attempt at repair shall be made as soon as practicable, but no later than 5 calendar days after the leak is detected. Repair or replacement of leaking equipment shall be completed within 15 calendar days after detection of each leak, except as provided in paragraph (d) of this section.

(d) Delay of repair of leaking equipment will be allowed upon a demonstration to the Administrator that repair within 15 days is not feasible. The owner or operator shall provide the reason(s) a delay is needed and the date by which each repair is expected to be completed.

(e) As an alternative to compliance with the provisions in paragraphs (a) through (d) of this section, owners or operators may implement an instrument leak monitoring program that has been demonstrated to the Administrator as at least equivalent.

(f) You must comply with the requirements of this subpart by the applicable dates specified in § 63.11083.

(g) You must submit the applicable notifications as required under § 63.11093.

(h) You must keep records and submit reports as specified in §§ 63.11094 and 63.11095.

Testing and Monitoring Requirements

§ 63.11092 What testing and monitoring requirements must I meet?

(a) Each owner or operator subject to the emission standard in § 63.11088 for gasoline loading racks must comply with the requirements in paragraphs (a) through (d) of this section.

(1) Conduct a performance test on the vapor processing and collection systems according to either paragraph (a)(1)(i) or paragraph (a)(1)(ii) of this section.

(i) Use the test methods and procedures in § 60.503 of this chapter, except a reading of 500 parts per million shall be used to determine the level of leaks to be repaired under § 60.503(b), or

(ii) Use alternative test methods and procedures in accordance with the alternative test method requirements in § 63.7(f).

(2) If your gasoline loading rack has been permitted by a State or local agency to meet an emission limit of 80 milligrams, or less, per liter of gasoline loaded (mg/l) and you are in compliance with all applicable provisions of your operating permit, a statement by a responsible official of your facility certifying the compliance status may be submitted in lieu of the test required under paragraph (a)(1) of this section.

(3) If you have conducted performance testing on the vapor processing and collection systems within 3 years prior to [DATE OF PUBLICATION OF THE FINAL RULE IN THE Federal Register], you may submit the results of such testing in lieu of the test required under paragraph (a)(1) of this section, provided the testing was conducted using the test methods and procedures in § 60.503 of this chapter.

(4) The performance test requirements of § 63.11092(a) do not apply to flares defined in § 63.11100 and meeting the flare requirements in § 63.11(b). The owner or operator shall demonstrate that the flare and associated vapor collection system is in compliance with the requirements in § 63.11(b) and § 60.503(a), (b), and (d), respectively.

(b) For each performance test conducted under paragraph (a)(1) of this section, the owner or operator shall determine a monitored operating parameter value for the vapor processing system using the procedures specified in paragraphs (b)(1) through (5) of this section.

(1) Each owner or operator of a bulk gasoline terminal subject to the provisions of this subpart shall install, calibrate, certify, operate, and maintain, according to the manufacturer's specifications, a continuous monitoring system (CMS) while gasoline vapors are displaced to the vapor processor systems specified in paragraphs (b)(1)(i) through (iv) of this section. During the performance test, continuously record the operating parameter as specified under paragraphs (b)(1)(i) through (iv) of this section.

(i) Where a carbon adsorption system is used, a continuous emission monitoring system (CEMS) capable of measuring organic compound concentration shall be installed in the exhaust air stream.

(ii) Where a refrigeration condenser system is used, a continuous parameter monitoring system (CPMS) capable of measuring temperature shall be installed immediately downstream from the outlet to the condenser section. Alternatively, a CEMS capable of measuring organic compound concentration may be installed in the exhaust air stream.

(iii) Where a thermal oxidation system other than a flare is used, the owner or operator shall monitor the operation of the system as specified in paragraphs (b)(1)(iii)(A) or (B) of this section.

(A) A CPMS capable of measuring temperature shall be installed in the firebox or in the ductwork immediately downstream from the firebox in a position before any substantial heat exchange occurs.

(B) The presence of a thermal oxidation system pilot flame shall be monitored using a heat-sensing device, such as an ultraviolet beam sensor or a thermocouple, installed in proximity to the pilot light to indicate the presence of a flame.

(iv) Monitoring an alternative operating parameter or a parameter of a vapor processing system other than those listed in paragraphs (b)(1)(i) through (iii) of this section will be allowed upon demonstrating to the Administrator's satisfaction that the alternative parameter demonstrates continuous compliance with the emission standard in § 63.11088(a).

(2) Where a flare meeting the requirements in § 63.11(b) is used, a heat-sensing device, such as an ultraviolet beam sensor or a thermocouple, must be installed in proximity to the pilot light to indicate the presence of a flame.

(3) Determine an operating parameter value based on the parameter data monitored during the performance test, supplemented by engineering assessments and the manufacturer's recommendations.

(4) Provide for the Administrator's approval the rationale for the selected operating parameter value, monitoring frequency, and averaging time, including data and calculations used to develop the value and a description of why the value, monitoring frequency, and averaging time demonstrate continuous compliance with the emission standard in § 63.11088(a).

(5) If you have chosen to comply with the performance testing alternatives provided under paragraphs (a)(2) or (a)(3) of this section, the monitored operating parameter value may be determined according to the provisions in paragraphs (b)(5)(i) or (b)(5)(ii) of this section.

(i) Monitor an operating parameter that has been approved by the permitting authority and is specified in your facility's current enforceable operating permit. At the time that the permitting authority requires a new performance test, you must determine the monitored operating parameter value according to the requirements specified in paragraph (b) of this section.

(ii) Determine an operating parameter value based on engineering assessment and the manufacturer's recommendation and submit the information specified in paragraph (b)(4) of this section for approval by the permitting authority. At the time that the permitting authority requires a new performance test, you must determine the monitored operating parameter value according to the requirements specified in paragraph (b) of this section.

(c) For performance tests performed after the initial test required under paragraph (a) of this section, the owner or operator shall document the reasons for any change in the operating parameter value since the previous performance test.

(d) Each owner or operator of a bulk gasoline terminal subject to the provisions of this subpart shall operate the vapor processing system in a manner not to exceed or not to go below, as appropriate, the operating parameter value for the parameters described in paragraph (b)(1) of this section. In cases where an alternative parameter pursuant to paragraphs (b)(1)(iv) or paragraph (b)(5) of this section is approved, each owner or operator shall operate the vapor processing system in a manner not to exceed or not to go below, as appropriate, the alternative operating parameter value. Operation of the vapor processing system in a manner exceeding or going below the operating parameter value shall constitute a violation of the emission standard in § 63.11088(a).

(e) Each owner or operator subject to the emission standard in § 63.11087 for gasoline storage tanks shall comply with the requirements in paragraphs (e)(1) through (3) of this section.

(1) If your gasoline storage tank is equipped with an internal floating roof, you must perform inspections of the floating roof system according to the requirements of § 60.113b(a) if you are complying with option ii in Table 1, or according to the requirements of § 63.1063(c)(1) if you are complying with option iv in Table 1.

(2) If your gasoline storage tank is equipped with an external floating roof, you must perform inspections of the floating roof system according to the requirements of § 60.113b(b) if you are complying with option iii in Table 1, or according to the requirements of § 63.1063(c)(2) if you are complying with option iv in Table 1.

(3) If your gasoline storage tank is equipped with a closed vent system and control device, you must conduct a performance test and determine a monitored operating parameter value in accordance with the requirements in paragraphs (a) through (d) of this section, except that the applicable level of control specified in paragraph (a)(2) of this section shall be a 95 percent reduction in inlet TOC levels rather than 80 mg/l of gasoline loaded.

(f) The annual certification test for gasoline cargo tanks shall consist of the test methods specified in paragraphs (f)(1) or (f)(2) of this section.

(1) Method 27, appendix A, 40 CFR part 60. Conduct the test using a time period (t) for the pressure and vacuum tests of 5 minutes. The initial pressure (Pi) for the pressure test shall be 460 millimeters (mm) of water (18 inches of water), gauge. The initial vacuum (Vi) for the vacuum test shall be 150 mm of water (6 inches of water), gauge. The maximum allowable pressure and vacuum changes (Δ p, Δ v) for all affected gasoline cargo tanks is 3 inches of water, or less, in 5 minutes.

(2) Railcar bubble leak test procedures. As an alternative to the annual certification test required under paragraph (1) of this section for certification leakage testing of gasoline cargo tanks, the owner or operator may comply with paragraphs (f)(2)(i) and (ii) of this section for railcar cargo tanks, provided the railcar cargo tank meets the requirement in paragraph (f)(2)(iii) of this section.

(i) Comply with the requirements of 49 CFR 173.31(d), 49 CFR 179.7, 49 CFR 180.509, and 49 CFR 180.511 for the periodic testing of railcar cargo tanks.

(ii) The leakage pressure test procedure required under 49 CFR 180.509(j) and used to show no indication of leakage under 49 CFR 180.511(f) shall be ASTM E 515-95, BS EN 1593:1999, or another bubble leak test procedure meeting the requirements in 49 CFR 179.7, 49 CFR 180.505, and 49 CFR 180.509.

(iii) The alternative requirements in this paragraph (f)(2) may not be used for any railcar cargo tank that collects gasoline vapors from a vapor balance system permitted under or required by a Federal, State, local, or tribal agency. A vapor balance system is a piping and collection system designed to collect gasoline vapors displaced from a storage vessel, barge, or other container being loaded, and routes the displaced gasoline vapors into the railcar cargo tank from which liquid gasoline is being unloaded.

Notifications, Reports, and Records

§ 63.11093 What notifications must I submit and when?

(a) Each owner or operator of an affected source under this subpart must submit an Initial Notification as specified in § 63.9(b). If your facility is in compliance with the requirements of this subpart at the time the Initial Notification is due, the Notification of Compliance Status required under paragraph (b) of this section may be submitted in lieu of the Initial Notification.

(b) Each owner or operator of an affected source under this subpart must submit a Notification of Compliance Status as specified in § 63.9(h). The Notification of Compliance Status must specify which of the alternative compliance options included in Table 1 is used to comply with this subpart.

(c) Each owner or operator of an affected bulk gasoline terminal under this subpart must submit a Notification of Performance Test, as specified in § 63.9(e), prior to initiating testing required by § 63.11092(a) or (b).

(d) Each owner or operator of any affected source under this subpart must submit additional notifications specified in § 63.9, as applicable.

§ 63.11094 What are my recordkeeping requirements?

(a) Each owner or operator of a bulk gasoline terminal or pipeline breakout station whose storage vessels are subject to the provisions of this subpart shall keep records as specified in § 60.115b of this chapter if you are complying with options i, ii, or iii in Table 1, except records shall be kept for at least 5 years. If you are complying with the requirements of option iv in Table 1, you shall keep records as specified in § 63.1065.

(b) Each owner or operator of a bulk gasoline terminal subject to the provisions of this subpart shall keep records of the test results for each gasoline cargo tank loading at the facility as specified in paragraphs (b)(1) and (3) of this section.

(1) Annual certification testing performed under § 63.11092(f)(1) and periodic railcar bubble leak testing performed under § 63.11092(f)(2).

(2) The documentation file shall be kept up-to-date for each gasoline cargo tank loading at the facility. The documentation for each test shall include, as a minimum, the following information:

(i) Name of test: Annual Certification Test—Method 27 or Periodic Railcar Bubble Leak Test Procedure.

(ii) Cargo tank owner's name and address.

(iii) Cargo tank identification number.

(iv) Test location and date.

(v) Tester name and signature.

(vi) Witnessing inspector, if any: Name, signature, and affiliation.

(vii) Vapor tightness repair: Nature of repair work and when performed in relation to vapor tightness testing.

(viii) Test results: Test pressure; pressure or vacuum change, mm of water; time period of test; number of leaks found with instrument; and leak definition.

(3) If you are complying with the alternative requirements in § 63.11088(d), you must keep records documenting that you have verified the vapor tightness testing according to the requirements of the permitting authority.

(c) As an alternative to keeping records at the terminal of each gasoline cargo tank test result as required in paragraph (b) of this section, an owner or operator may comply with the requirements in either paragraph (c)(1) or paragraph (c)(2) of this section.

(1) An electronic copy of each record is instantly available at the terminal.

(i) The copy of each record in paragraph (c)(1) of this section is an exact duplicate image of the original paper record with certifying signatures.

(ii) The permitting authority is notified in writing that each terminal using this alternative is in compliance with paragraph (c)(1) of this section.

(2) For facilities that utilize a terminal automation system to prevent gasoline cargo tanks that do not have valid cargo tank vapor tightness documentation from loading (e.g., via a card lock-out system), a copy of the documentation is made available (e.g., via facsimile) for inspection by permitting authority representatives during the course of a site visit, or within a mutually agreeable time frame.

(i) The copy of each record in paragraph (c)(2) of this section is an exact duplicate image of the original paper record with certifying signatures.

(ii) The permitting authority is notified in writing that each terminal using this alternative is in compliance with paragraph (c)(2) of this section.

(d) Each owner or operator subject to the equipment leak provisions of § 63.11089 shall prepare and maintain a record describing the types, identification numbers, and locations of all equipment in gasoline service. For facilities electing to implement an instrument program under § 63.11089(e), the record shall contain a full description of the program.

(e) Each owner or operator of an affected source subject to equipment leak inspections under § 63.11089 shall record in the log book for each leak that is detected the information specified in paragraphs (e)(1) through (7) of this section.

(1) The equipment type and identification number.

(2) The nature of the leak (i.e., vapor or liquid) and the method of detection (i.e., sight, sound, or smell).

(3) The date the leak was detected and the date of each attempt to repair the leak.

(4) Repair methods applied in each attempt to repair the leak.

(5) “Repair delayed” and the reason for the delay if the leak is not repaired within 15 calendar days after discovery of the leak.

(6) The expected date of successful repair of the leak if the leak is not repaired within 15 days.

(7) The date of successful repair of the leak.

(f) Each owner or operator of a bulk gasoline terminal subject to the provisions of this subpart shall:

(1) Keep an up-to-date, readily accessible record of the continuous monitoring data required under § 63.11092(b) or § 63.11092(e). This record shall indicate the time intervals during which loadings of gasoline cargo tanks have occurred or, alternatively, shall record the operating parameter data only during such loadings. The date and time of day shall also be indicated at reasonable intervals on this record.

(2) Record and report simultaneously with the notification of compliance status required under § 63.11093(b):

(i) All data and calculations, engineering assessments, and manufacturer's recommendations used in determining the operating parameter value under § 63.11092(b) or § 63.11092(e); and

(ii) The following information when using a flare under provisions of § 63.11(b) to comply with § 63.11087(a):

(A) Flare design (i.e., steam-assisted, air-assisted, or non-assisted); and

(B) All visible emissions readings, heat content determinations, flow rate measurements, and exit velocity determinations made during the compliance determination required under § 63.11092(e)(3).

(3) If an owner or operator requests approval to use a vapor processing system or monitor an operating parameter other than those specified in § 63.11092(b), the owner or operator shall submit a description of planned reporting and recordkeeping procedures. The Administrator will specify appropriate reporting and recordkeeping requirements as part of the review of the permit application.

§ 63.11095 What are my reporting requirements?

(a) Each owner or operator of a bulk terminal, pipeline breakout station, or pipeline pumping station subject to the control requirements of this subpart shall include in a semiannual compliance report to the Administrator the following information, as applicable:

(1) For storage vessels, if you are complying with options i, ii, or iii in Table 1, the information specified in § 60.115b(a), § 60.115b(b), or § 60.115b(c) of this chapter, depending upon the control equipment installed; or, if you are complying with option iv in Table 1, the information specified in § 63.1066.

(2) For loading racks, each loading of a gasoline cargo tank for which vapor tightness documentation had not been previously obtained by the facility.

(3) For equipment leak inspections, the number of equipment leaks not repaired within 15 days after detection.

(b) Each owner or operator of an affected source subject to the control requirements of this subpart shall submit an excess emissions report to the Administrator at the time the semiannual compliance report is submitted. Excess emissions events under this subpart, and the information to be included in the excess emissions report, are specified in paragraphs (b)(1) through (4) of this section.

(1) Each instance of a non-vapor-tight gasoline cargo tank loading at the facility in which the owner or operator failed to take steps to assure that such cargo tank would not be reloaded at the facility before vapor tightness documentation for that cargo tank was obtained.

(2) Each reloading of a non-vapor-tight gasoline cargo tank at the facility before vapor tightness documentation for that cargo tank is obtained by the facility in accordance with § 63.11094(b).

(3) Each exceedance or failure to maintain, as appropriate, the monitored operating parameter value determined under § 63.11092(b). The report shall include the monitoring data for the days on which exceedances or failures to maintain have occurred, and a description and timing of the steps taken to repair or perform maintenance on the vapor collection and processing systems or the CMS.

(4) For each occurrence of an equipment leak for which no repair attempt was made within 5 days or for which repair was not completed within 15 days after detection:

(i) The date on which the leak was detected;

(ii) The date of each attempt to repair the leak;

(iii) The reasons for the delay of repair; and

(iv) The date of successful repair.

Other Requirements and Information

§ 63.11098 What parts of the General Provisions apply to me?

Table 3 to this subpart shows which parts of the General Provisions apply to you.

§ 63.11099 Who implements and enforces this subpart?

(a) This subpart can be implemented and enforced by the U.S. EPA or a delegated authority such as the applicable State, local, or tribal agency. If the U.S. EPA Administrator has delegated authority to a State, local, or Tribal agency, then that agency, in addition to the U.S. EPA, has the authority to implement and enforce this subpart. Contact the applicable U.S. EPA Regional Office to find out if implementation and enforcement of this subpart is delegated to a State, local, or tribal agency.

(b) In delegating implementation and enforcement authority of this subpart to a State, local, or tribal agency under subpart E of this part, the authorities specified in paragraph (c) of this section are retained by the Administrator of U.S. EPA and cannot be transferred to the State, local, or tribal agency.

(c) The authorities that cannot be delegated to State, local, or tribal agencies are as specified in paragraphs (c)(1) through (4) of this section.

(1) Approval of alternatives to the requirements in §§ 63.11085 through 63.11097. Any owner or operator requesting to use an alternative means of emission limitation for storage vessels in Table 1 must follow either the provisions in § 60.114b of this chapter if you are complying with options i, ii, or iii in Table 1, or the provisions in § 63.1064 if you are complying with option iv in Table 1.

(2) Approval of major alternatives to test methods under § 63.7(e)(2)(ii) and (f), as defined in § 63.90, and as required in this subpart.

(3) Approval of major alternatives to monitoring under § 63.8(f), as defined in § 63.90, and as required in this subpart.

(4) Approval of major alternatives to recordkeeping and reporting under § 63.10(f), as defined in § 63.90, and as required in this subpart.

§ 63.11100 What definitions apply to this subpart?

As used in this subpart, all terms not defined herein shall have the meaning given them in the Clean Air Act (CAA); in subparts A, K, Ka, Kb, WW, and XX of part 60 of this chapter; or in subparts A and R of this part. All terms defined in both subpart A of part 60 of this chapter and subparts A and R of this part shall have the meaning given in subparts A and R of this part. For purposes of this subpart, definitions in this section supersede definitions in other parts or subparts.

Administrator means the Administrator of the United States Environmental Protection Agency or his or her authorized representative (e.g., a State that has been delegated the authority to implement the provisions of this subpart).

Bulk gasoline plant means any gasoline storage and distribution facility which receives gasoline by pipeline, ship or barge, or cargo tank and has a gasoline throughput of less than 20,000 gallons per day. Gasoline throughput shall be the maximum calculated design throughput as may be limited by compliance with an enforceable condition under Federal, State or local law and discoverable by the Administrator and any other person.

Bulk gasoline terminal means any gasoline storage and distribution facility which receives gasoline by pipeline, ship or barge, or cargo tank and has a gasoline throughput of 20,000 gallons per day or greater. Gasoline throughput shall be the maximum calculated design throughput as may be limited by compliance with an enforceable condition under Federal, State or local law and discoverable by the Administrator and any other person.

Flare means a thermal oxidation system using an open (without enclosure) flame.

Gasoline cargo tank means a delivery tank truck or railcar which is loading gasoline or which has loaded gasoline on the immediately previous load.

Gasoline dispensing facility means any stationary facility which dispenses gasoline directly into the fuel tank of a motor vehicle.

In gasoline service means that a piece of equipment is used in a system that transfers gasoline or gasoline vapors.

Metropolitan statistical area (MSA) means a geographic entity defined by the Federal Office of Management and Budget for use by Federal statistical agencies, based on the concept of a core area with a large population nucleus, plus adjacent communities having a high degree of economic and social integration with that core. Qualification of an MSA requires the presence of a city with 50,000 or more inhabitants, or the presence of an Urbanized Area (UA) and a total population of at least 100,000 (75,000 in New England). The county or counties containing the largest city and surrounding densely settled territory are central counties of the MSA. Additional outlying counties qualify to be included in the MSA by meeting certain other criteria of metropolitan character, such as a specified minimum population density or percentage of the population that is urban. MSA in New England are defined in terms of minor civil divisions, following rules concerning commuting and population density.

Operating parameter value means a value for an operating or emission parameter of the vapor processing system (e.g., temperature) which, if maintained continuously by itself or in combination with one or more other operating parameter values, determines that an owner or operator has complied with the applicable emission standard. The operating parameter value is determined using the procedures specified in § 63.11092(b).

Pipeline breakout station means a facility along a pipeline containing storage vessels used to relieve surges or receive and store gasoline from the pipeline for re-injection and continued transportation by pipeline or to other facilities.

Pipeline pumping station means a facility along a pipeline containing pumps to maintain the desired pressure and flow of product through the pipeline and not containing storage vessels.

Submerged filling means the filling of a gasoline cargo tank or a stationary storage tank through a submerged fill pipe whose discharge is no more than 6 inches from the bottom of the tank. Bottom filling of gasoline cargo tanks or storage tanks is included in this definition.

Urban means all territory, population, and housing units in urbanized areas and in places of more than 2,500 persons outside of UA. “Urban” classification cuts across other hierarchies and can be in metropolitan or non-metropolitan areas.

Urban 1 areas means counties that are part of an MSA with a population greater than 250,000, based on the 1990 and the most current U.S. Census Bureau statistical decennial census data.

Urban 2 areas means counties where more than 50 percent of the population is classified by the U.S. Census Bureau as urban, based on the 1990 and the most current U.S. Census Bureau statistical decennial census data.

Urbanized area (UA) means an area consisting of a central place(s) and adjacent territory with a general population density of at least 1,000 people per square mile of land area that together have a minimum residential population of at least 50,000 people.

Vapor collection-equipped gasoline cargo tank means a gasoline cargo tank that is outfitted with the equipment necessary to transfer vapors, displaced during the loading of gasoline into the cargo tank, to a vapor processor system.

Tables to Subpart BBBBBB of Part 63

Table 1.—To Subpart BBBBBB of Part 63—Applicability Criteria, Emission Limits, and Work Practice Standards for Storage Tanks
If you own or operate | And if | Then you must
A gasoline storage tank with a capacity of greater than or equal to 75 cubic meters (m³) | Your storage tank is not subject to the control requirements of part 60, subpart Kb (§ 60.112b) of this chapter | i. Reduce emissions of total organic HAP or Total Organic Compounds (TOC) by 95 weight-percent with a closed vent system and control device as specified in § 60.112b(a)(3) of this chapter, or ii. Equip each internal floating roof gasoline storage tank according to the requirements in § 60.112b(a)(1) of this chapter, except for the requirements in § 60.112b(a)(1)(iv) through (ix) of this chapter, or iii. Equip each external floating roof gasoline storage tank according to the requirements in § 60.112b(a)(2) of this chapter, except that the requirements of § 60.112b(a)(2)(ii) of this chapter shall only be required if such storage tank does not currently meet the requirements of § 60.112b(a)(2)(i) of this chapter, or iv. Equip and operate each floating roof gasoline storage tank according to the requirements in § 63.1063(a)(1) and (b), and equip each external floating roof gasoline storage tank according to the requirements of § 63.1063(a)(2) if such storage tank does not currently meet the requirements of § 63.1063(a)(1).

Table 2.—To Subpart BBBBBB of Part 63—Applicability Criteria, Emission Limits, and Work Practice Standards for Loading Racks
If you own or operate | And if | Then you must
A gasoline loading rack at a bulk gasoline terminal | Your loading rack is not subject to the control requirements of part 60, subpart XX (§ 60.502); part 63, subpart R (§ 63.422); or to an enforceable State, local, or tribal regulation requiring that emissions from your loading operations be limited to ≤80 milligrams per liter of gasoline loaded into gasoline cargo tanks at the loading rack | i. Equip your loading rack with a vapor collection system designed to collect the TOC vapors displaced from cargo tanks during product loading, and ii. Reduce emissions of TOC to ≤80 milligrams per liter of gasoline loaded into gasoline cargo tanks at the loading rack, and iii. Design and operate the vapor collection system to prevent any TOC vapors collected at one loading rack from passing to another loading rack, and iv. Limit the loading of gasoline into gasoline cargo tanks that are vapor tight using the procedures specified in § 63.11088(b) through (d).

Table 3.—To Subpart BBBBBB of Part 63—Applicability of General Provisions
Citation | Subject | Brief description | Applies to subpart BBBBBB
§ 63.1 | Applicability | Initial applicability determination; applicability after standard established; permit requirements; extensions, notifications | Yes, specific requirements given in § 63.11085.
63.1(c)(2) | Title V permit | Requirements for obtaining a title V permit from the applicable permitting authority | Yes, § 63.11081(b) of subpart BBBBBB exempts some area sources from the obligation to obtain title V operating permits.
§ 63.2 | Definitions | Definitions for part 63 standards | Yes, additional definitions in § 63.11100.
§ 63.3 | Units and Abbreviations | Units and abbreviations for part 63 standards | Yes.
§ 63.4 | Prohibited Activities and Circumvention | Prohibited activities; circumvention, severability | Yes.
§ 63.5 | Construction/Reconstruction | Applicability; applications; approvals | Yes.
§ 63.6(a) | Compliance with Standards/Operation & Maintenance Applicability | GP apply unless compliance extension; General Provisions apply to area sources that become major | Yes.
§ 63.6(b)(1)-(4) | Compliance Dates for New and Reconstructed Sources | Standards apply at effective date; 3 years after effective date; upon startup; 10 years after construction or reconstruction commences for CAA section 112(f) | Yes.
§ 63.6(b)(5) | Notification | Must notify if commenced construction or reconstruction after proposal | Yes.
§ 63.6(b)(6) | [Reserved] |  |
§ 63.6(b)(7) | Compliance Dates for New and Reconstructed Area Sources that Become Major | Area sources that become major must comply with major source standards immediately upon becoming major, regardless of whether required to comply when they were an area source | No.
§ 63.6(c)(1)-(2) | Compliance Dates for Existing Sources | Comply according to date in this subpart, which must be no later than 3 years after effective date; for CAA section 112(f) standards, comply within 90 days of effective date unless compliance extension | No, § 63.11083 specifies the compliance dates.
§ 63.6(c)(3)-(4) | [Reserved] |  |
§ 63.6(c)(5) | Compliance Dates for Existing Area Sources that Become Major | Area sources that become major must comply with major source standards by date indicated in this subpart or by equivalent time period (e.g., 3 years) | No.
§ 63.6(d) | [Reserved] |  |
§ 63.6(e)(1) | Operation & Maintenance | Operate to minimize emissions at all times; correct malfunctions as soon as practicable; and operation and maintenance requirements independently enforceable; information Administrator will use to determine if operation and maintenance requirements were met | Yes.
§ 63.6(e)(2) | [Reserved] |  |
§ 63.6(e)(3) | Startup, Shutdown, and Malfunction (SSM) Plan | Requirement for SSM plan; content of SSM plan; actions during SSM | No.
§ 63.6(f)(1) | Compliance Except During SSM | You must comply with emission standards at all times except during SSM | No.
§ 63.6(f)(2)-(3) | Methods for Determining Compliance | Compliance based on performance test, operation and maintenance plans, records, inspection | Yes.
§ 63.6(g)(1)-(3) | Alternative Standard | Procedures for getting an alternative standard | Yes.
§ 63.6(h)(1) | Compliance with Opacity/Visible Emission (VE) Standards | You must comply with opacity/VE standards at all times except during SSM | No.
§ 63.6(h)(2)(i) | Determining Compliance with Opacity/VE Standards | If standard does not state test method, use EPA Method 9 for opacity in appendix A of part 60 of this chapter and EPA Method 22 for VE in appendix A of part 60 of this chapter | No.
§ 63.6(h)(2)(ii) | [Reserved] |  |
§ 63.6(h)(2)(iii) | Using Previous Tests to Demonstrate Compliance with Opacity/VE Standards | Criteria for when previous opacity/VE testing can be used to show compliance with this subpart | No.
§ 63.6(h)(3) | [Reserved] |  |
§ 63.6(h)(4) | Notification of Opacity/VE Observation Date | Must notify Administrator of anticipated date of observation | No.
§ 63.6(h)(5)(i), (iii)-(v) | Conducting Opacity/VE Observations | Dates and schedule for conducting opacity/VE observations | No.
§ 63.6(h)(5)(ii) | Opacity Test Duration and Averaging Times | Must have at least 3 hours of observation with thirty 6-minute averages | No.
§ 63.6(h)(6) | Records of Conditions During Opacity/VE Observations | Must keep records available and allow Administrator to inspect | No.
§ 63.6(h)(7)(i) | Report Continuous Opacity Monitoring System (COMS) Monitoring Data from Performance Test | Must submit COMS data with other performance test data | No.
§ 63.6(h)(7)(ii) | Using COMS Instead of EPA Method 9 | Can submit COMS data instead of EPA Method 9 results even if rule requires EPA Method 9 in appendix A of part 60 of this chapter, but must notify Administrator before performance test | No.
§ 63.6(h)(7)(iii) | Averaging Time for COMS During Performance Test | To determine compliance, must reduce COMS data to 6-minute averages | No.
§ 63.6(h)(7)(iv) | COMS Requirements | Owner/operator must demonstrate that COMS performance evaluations are conducted according to § 63.8(e); COMS are properly maintained and operated according to § 63.8(c) and data quality as § 63.8(d) | No.
§ 63.6(h)(7)(v) | Determining Compliance with Opacity/VE Standards | COMS is probable but not conclusive evidence of compliance with opacity standard, even if EPA Method 9 observation shows otherwise. Requirements for COMS to be probable evidence-proper maintenance, meeting Performance Specification 1 in appendix B of part 60 of this chapter, and data have not been altered | No.
§ 63.6(h)(8) | Determining Compliance with Opacity/VE Standards | Administrator will use all COMS, EPA Method 9 (in appendix A of part 60 of this chapter), and EPA Method 22 (in appendix A of part 60 of this chapter) results, as well as information about operation and maintenance to determine compliance | No.
§ 63.6(h)(9) | Adjusted Opacity Standard | Procedures for Administrator to adjust an opacity standard | No.
§ 63.6(i)(1)-(14) | Compliance Extension | Procedures and criteria for Administrator to grant compliance extension | Yes.
§ 63.6(j) | Presidential Compliance Exemption | President may exempt any source from requirement to comply with this subpart | Yes.
§ 63.7(a)(2) | Performance Test Dates | Dates for conducting initial performance testing; must conduct 180 days after compliance date | Yes.
§ 63.7(a)(3) | Section 114 Authority | Administrator may require a performance test under CAA section 114 at any time | Yes.
§ 63.7(b)(1) | Notification of Performance Test | Must notify Administrator 60 days before the test | Yes.
§ 63.7(b)(2) | Notification of Re-scheduling | If have to reschedule performance test, must notify Administrator of rescheduled date as soon as practicable and without delay | Yes.
§ 63.7(c) | Quality Assurance (QA)/Test Plan | Requirement to submit site-specific test plan 60 days before the test or on date Administrator agrees with; test plan approval procedures; performance audit requirements; internal and external QA procedures for testing | Yes.
§ 63.7(d) | Testing Facilities | Requirements for testing facilities | Yes.
§ 63.7(e)(1) | Conditions for Conducting Performance Tests | Performance tests must be conducted under representative conditions; cannot conduct performance tests during SSM | Yes.
§ 63.7(e)(2) | Conditions for Conducting Performance Tests | Must conduct according to this subpart and EPA test methods unless Administrator approves alternative | Yes.
§ 63.7(e)(3) | Test Run Duration | Must have three test runs of at least 1 hour each; compliance is based on arithmetic mean of three runs; conditions when data from an additional test run can be used | Yes.
§ 63.7(f) | Alternative Test Method | Procedures by which Administrator can grant approval to use an intermediate or major change, or alternative to a test method | Yes.
§ 63.7(g) | Performance Test Data Analysis | Must include raw data in performance test report; must submit performance test data 60 days after end of test with the notification of compliance status; keep data for 5 years | Yes.
§ 63.7(h) | Waiver of Tests | Procedures for Administrator to waive performance test | Yes.
§ 63.8(a)(1) | Applicability of Monitoring Requirements | Subject to all monitoring requirements in standard | Yes.
§ 63.8(a)(2) | Performance Specifications | Performance specifications in appendix B of 40 CFR part 60 apply | Yes.
§ 63.8(a)(3) | [Reserved] |  |
§ 63.8(a)(4) | Monitoring of Flares | Monitoring requirements for flares in § 63.11 apply | Yes.
§ 63.8(b)(1) | Monitoring | Must conduct monitoring according to standard unless Administrator approves alternative | Yes.
§ 63.8(b)(2)-(3) | Multiple Effluents and Multiple Monitoring Systems | Specific requirements for installing monitoring systems; must install on each affected source or after combined with another affected source before it is released to the atmosphere provided the monitoring is sufficient to demonstrate compliance with the std; if more than one monitoring system on an emission point, must report all monitoring system results, unless one monitoring system is a backup | Yes.
§ 63.8(c)(1) | Monitoring System Operation and Maintenance | Maintain monitoring system in a manner consistent with good air pollution control practices | Yes.
§ 63.8(c)(1)(i)-(iii) | Routine and Predictable SSM | Follow the SSM plan for routine repairs; keep parts for routine repairs readily available; reporting requirements for SSM when action is described in SSM plan | Yes.
§ 63.8(c)(2)-(8) | CMS Requirements | Must install to get representative emission or parameter measurements; must verify operational status before or at performance test | Yes.
§ 63.8(d) | CMS Quality Control | Requirements for CMS quality control, including calibration, etc.; must keep quality control plan on record for 5 years; keep old versions for 5 years after revisions | No.
§ 63.8(e) | CMS Performance Evaluation | Notification, performance evaluation test plan, reports | Yes.
§ 63.8(f)(1)-(5) | Alternative Monitoring Method | Procedures for Administrator to approve alternative monitoring | Yes.
§ 63.8(f)(6) | Alternative to Relative Accuracy Test | Procedures for Administrator to approve alternative relative accuracy tests for CEMS | Yes.
§ 63.8(g) | Data Reduction | COMS 6-minute averages calculated over at least 36 evenly spaced data points; CEMS 1 hour averages computed over at least 4 equally spaced data points; data that cannot be used in average | Yes.
§ 63.9(a) | Notification Requirements | Applicability and State delegation | Yes.
§ 63.9(b)(1)-(2), (4)-(5) | Initial Notifications | Submit notification within 120 days after effective date; notification of intent to construct/reconstruct, notification of commencement of construction/reconstruction, notification of startup; contents of each | Yes.
§ 63.9(c) | Request for Compliance Extension | Can request if cannot comply by date or if installed best available control technology or lowest achievable emission rate (BACT/LAER) | Yes.
§ 63.9(d) | Notification of Special Compliance Requirements for New Sources | For sources that commence construction between proposal and promulgation and want to comply 3 years after effective date | Yes.
§ 63.9(e) | Notification of Performance Test | Notify Administrator 60 days prior | Yes.
§ 63.9(f) | Notification of VE/Opacity Test | Notify Administrator 30 days prior | No.
§ 63.9(g) | Additional Notifications When Using CMS | Notification of performance evaluation; notification about use of COMS data; notification that exceeded criterion for relative accuracy alternative | Yes; however, there are no opacity standards.
§ 63.9(h)(1)-(6) | Notification of Compliance Status | Contents due 60 days after end of performance test or other compliance demonstration, except for opacity/VE, which are due 30 days after; when to submit to Federal vs. State authority | Yes; however, there are no opacity standards.
§ 63.9(i) | Adjustment of Submittal Deadlines | Procedures for Administrator to approve change when notifications must be submitted | Yes.
§ 63.9(j) | Change in Previous Information | Must submit within 15 days after the change | Yes.
§ 63.10(a) | Record-keeping/Reporting | Applies to all, unless compliance extension; when to submit to Federal vs. State authority; procedures for owners of more than one source | Yes.
§ 63.10(b)(1) | Record-keeping/Reporting | General requirements; keep all records readily available; keep for 5 years | Yes.
§ 63.10(b)(2)(i)-(iv) | Records Related to Startup, Shutdown, and Malfunction | Occurrence of each for operations (process equipment); occurrence of each malfunction of air pollution control equipment; maintenance on air pollution control equipment; actions during SSM | Yes.
§ 63.10(b)(2)(vi)-(xi) | CMS Records | Malfunctions, inoperative, out-of-control periods | Yes.
§ 63.10(b)(2)(xii) | Records | Records when under waiver | Yes.
§ 63.10(b)(2)(xiii) | Records | Records when using alternative to relative accuracy test | Yes.
§ 63.10(b)(2)(xiv) | Records | All documentation supporting initial notification and notification of compliance status | Yes.
§ 63.10(b)(3) | Records | Applicability determinations | Yes.
§ 63.10(c) | Records | Additional records for CMS | No.
§ 63.10(d)(1) | General Reporting | Requirements Requirement to report | Yes.
§ 63.10(d)(2) | Report of Performance Test Results | When to submit to Federal or State authority | Yes.
§ 63.10(d)(3) | Reporting Opacity or VE Observations | What to report and when | No.
§ 63.10(d)(4) | Progress Reports | Must submit progress reports on schedule if under compliance extension | Yes.
§ 63.10(d)(5) | SSM Reports | Contents and submission | Yes.
§ 63.10(e)(1)-(2) | Additional CMS Reports | Must report results for each CEMS on a unit; written copy of CMS performance evaluation; 2-3 copies of COMS performance evaluation | No.
§ 63.10(e)(3)(i)-(iii) | Reports | Schedule for reporting excess emissions | Yes; note that § 63.11095 specifies excess emission events for this subpart.
§ 63.10(e)(3)(iv)-(v) | Excess Emissions Reports | Requirement to revert to quarterly submission if there is an excess emissions and parameter monitor exceedances (now defined as deviations); provision to request semiannual reporting after compliance for 1 year; submit report by 30th day following end of quarter or calendar half; if there has not been an exceedance or excess emissions (now defined as deviations), report contents in a statement that there have been no deviations; must submit report containing all of the information in §§ 63.8(c)(7)-(8) and 63.10(c)(5)-(13) | Yes, § 63.11095 specifies excess emission events for this subpart.
§ 63.10(e)(3)(vi)-(viii) | Excess Emissions Report and Summary Report | Requirements for reporting excess emissions for CMS; requires all of the information in §§ 63.8(c)(7)-(8) and 63.10(c)(5)-(13) | Yes.
§ 63.10(e)(4) | Reporting COMS Data | Must submit COMS data with performance test data | Yes.
§ 63.10(f) | Waiver for Recordkeeping/Reporting | Procedures for Administrator to waive | Yes.
§ 63.11(b) | Flares | Requirements for flares | Yes; the section references § 63.11(b).
§ 63.12 | Delegation | State authority to enforce standards | Yes.
§ 63.13 | Addresses | Addresses where reports, notifications, and requests are sent | Yes.
§ 63.14 | Incorporation by Reference | Test methods incorporated by reference | Yes.
§ 63.15 | Availability of Information | Public and confidential information | Yes.

[FR Doc. E6-18656 Filed 11-8-06; 8:45 am]

BILLING CODE 6560-50-P